DEPARTMENT OF THE INTERIOR

Bureau of Land Management

[LLCA932000.17X.L13400000.DP0000.LXSSB0020000 CACA057064]

Notice of Proposed Withdrawal; California Desert Conservation Area and Notice of Intent To Prepare an Environmental Impact Statement; California

AGENCY: Bureau of Land Management, Interior.

ACTION: Notice.

SUMMARY: This notice announces that the Assistant Secretary of the Interior for Land and Minerals Management proposes to withdraw 1,337,904 acres of public lands located within designated California Desert National Conservation Lands from mining to protect nationally significant landscapes with outstanding cultural, biological, and scientific values. This notice temporarily segregates the lands from location and entry under the United States mining laws for up to two years and provides the public with an opportunity to comment on the proposed withdrawal. In addition, this notice initiates the public scoping process for an Environmental Impact Statement (EIS), which will analyze and disclose impacts of the proposed withdrawal.

DATES: Comments on the proposed withdrawal application and scoping comments on issues to be analyzed in the EIS must be received by March 28, 2017. Please clearly indicate whether comments are in regard to the withdrawal application or scoping comments on the EIS. The date(s) and location(s) of meetings related to the proposed withdrawal and scoping meetings for the EIS will be announced at least 30 days in advance of the meeting through local media, newspapers, the Federal Register, and the BLM Web site at: http://www.blm.gov/california/DRECP. In order to be included in the EIS, all comments must be received prior to the close of the 90-day scoping period. Additional opportunities for public participation will be available following publication of the draft EIS.

ADDRESSES: Written comments should be sent to the BLM-California State Director, 2800 Cottage Way, Rm W-1623, Sacramento, CA 95825 or electronically to drecp_cdncl_withdrawal@blm.gov.

FOR FURTHER INFORMATION CONTACT: Vicki Campbell, DRECP Program Manager, 916-978-4320; Bureau of Land Management, 2800 Cottage Way, Rm W-1623, Sacramento, CA 95825; email vlcampbell@blm.gov. Persons who use a telecommunications device for the deaf (TDD) may call the Federal Relay Service (FRS) at 1-800-877-8339 to reach the BLM contact person. The Service is available 24 hours a day, 7 days a week, to leave a message or question with the above individual. You will receive a reply during normal business hours.

SUPPLEMENTARY INFORMATION: The Bureau of Land Management (BLM) petitioned the Assistant Secretary of the Interior for Land and Minerals Management to withdraw 1,337,904 million acres of California Desert National Conservation Lands from location and entry under the United States mining laws for a period of 20 years, subject to valid existing rights. All of the lands (unless otherwise subject to an existing withdrawal) will remain open to the public land laws, leasing under the mineral and geothermal leasing laws, and disposal under the mineral material sales laws. The lands are located in the California Desert Conservation Area. Copies of the maps entitled “DRECP-California Desert National Conservation Lands Proposed Withdrawal” depicting the lands proposed for withdrawal are posted on the BLM Web site at http://www.blm.gov/california/DRECP.html and are also available from the following BLM offices:

• BLM California State Office, 2800 Cottage Way, Suite W-1623, Sacramento, CA 95825;

• BLM California Desert District Office, 22835 Calle San Juan De Los Lagos, Moreno Valley, CA 92553;

• BLM Barstow Field Office, 2601 Barstow Road, Barstow, CA 92311;

• BLM El Centro Field Office, 1661 S. 4th Street, El Centro, CA 92243;

• BLM Needles Field Office, 1303 S. Highway 95, Needles, CA 92363;

• BLM Palm Springs South Coast Field Office, 1201 Bird Center Drive, Palm Springs, CA 92262; and

• BLM Ridgecrest Field Office, 300 S. Richmond Road, Ridgecrest, CA 93555.

The proposed withdrawal is divided into four areas and includes all of the public lands identified below:

Amargosa Area

San Bernardino Meridian

T. 15.5 N., R. 16 E.,

Sec. 19, that portion lying northwesterly of California State Highway 164.

T. 16 N., R. 16 E.,

Secs. 6 thru 8;

Secs. 16 thru 22;

Sec. 26, that portion lying northwesterly of California State Highway 164;

Secs. 27 thru 30;

Sec. 31, that portion lying northwesterly of California State Highway 164.

Sec. 32, N½ and those portions of the W½SE¼ and SW¼ lying northwesterly of California State Highway 164;

Sec. 33, NW¼NW¼ and those portions of the NE¼ and W½NW¼ lying northwesterly of California State Highway 164;

Secs. 34 thru 35, those portions lying northwesterly of California State Highway 164.

T. 15.5 N., R. 15 E.,

Sec. 19, that portion lying northeasterly of California State Highway 164;

Sec. 21, lots 1 thru 3 and that portion of the NE¼SE¼ lying northerly of California State Highway 164;

Secs. 22 thru 24, those portions lying northerly of California State Highway 164.

T. 16 N., R. 15 E.,

Secs. 1 thru 3;

Sec. 4, that portion lying easterly of Ivanpah Special Recreation Management Area (SRMA 2);

Sec. 7, that portion lying southeasterly of Ivanpah Valley Extensive Recreation Management Area (ERMA 26) and southwesterly of Ivanpah SRMA 2;

Secs. 9 thru 10, those portions lying easterly of Ivanpah SRMA 2;

Secs. 11 thru 15;

Sec. 17, that portion lying southerly of Ivanpah SRMA 2;

Sec. 18, that portion lying southeasterly of Ivanpah Valley ERMA 26 and southwesterly of Ivanpah SRMA 2;

Secs. 19 thru 30;

Sec. 31, that portion lying northeasterly of California State Highway 164;

Sec. 32;

Sec. 33, N½NE¼, SE¼NE¼, E½SW¼NE¼, NE¼SE¼, S½SE¼,E½NW¼SE¼, S½SW¼, W½NW¼SW¼, N½NW¼, and W½SW¼NW¼;

Secs. 34 and 35;

Sec. 36, S½SE¼.

T. 17 N., R. 15 E.,

Sec. 21, that portion lying easterly of Ivanpah Valley ERMA 26;

Sec. 22;

Secs. 26 thru 28;

Sec. 29, that portion lying easterly of Ivanpah SRMA 2;

Secs. 32 and 33, those portions lying northeasterly of Ivanpah SRMA 2;

Secs. 34 thru 36.

T. 15.5 N., R. 14 E.,

Sec. 29, that portion of the S½ lying westerly of Ivanpah Valley ERMA 26;

Sec. 30, that portion of the S½ lying northwesterly of Ivanpah Valley ERMA 26;

Sec. 31, that portion lying westerly of Ivanpah Valley ERMA 26;

T. 16 N., R. 14 E.,

Sec. 24, that portion lying easterly of Ivanpah ACEC 105;

Sec. 25;

Sec. 26, that portion lying easterly of U.S. Interstate Highway 15;

Sec. 35, that portion lying easterly of U.S. Interstate Highway 15 and northerly of California State Highway 164.

T. 17 N., R. 14 E.,

Sec. 1, that portion lying northwesterly of Ivanpah Area of Critical Environmental Concern (ACEC) 105;

Sec. 2, that portion lying northeasterly of BLM Stateline Wilderness Area.

T. 18 N., R. 14 E.,

Sec. 21, that portion lying northeasterly of BLM Stateline Wilderness Area and southeasterly of Mesquite Valley ERMA 30;

Sec. 22;

Secs. 26 and 27;

Sec. 28, that portion lying easterly of BLM Stateline Wilderness Area;

Secs. 33 thru 35, those portions lying northeasterly of BLM Stateline Wilderness Area;

Sec. 36.

T. 16 N., R. 13 E.,

Sec. 7, those portions lying southerly of Mojave National Preserve and excluding Mineral Survey No. 5372AB, approved November 2, 1918;

Sec. 17, SW¼NW¼, lots 1 thru 7, those portions of the SE¼ and SW¼ lying northwesterly of U.S. Interstate Highway 15;

Sec. 18, that portion lying northwesterly of U.S. Interstate Highway 15 and excluding Mineral Survey No. 5372AB, approved November 2, 1918;

Sec. 19, that portion lying northwesterly of U.S. Interstate Highway 15;

Sec. 25, SE¼.

T. 16 N., R. 12.5 E.,

Sec. 12, that portion lying southeasterly of Mojave National Preserve;

Sec. 13;

Sec. 24, that portion lying northwesterly of U.S. Interstate Highway 15.

T. 15 N., R. 12 E.,

Sec. 6, that portion lying northwesterly of U.S. Interstate Highway 15.

T. 16 N., R. 12 E.,

Sec. 4, that portion lying westerly of Mojave National Preserve;

Secs. 5 thru 8;

Sec. 9, that portion lying westerly of Mojave National Preserve;

Sec. 11 and 12, those portions lying southeasterly of Mojave National Preserve;

Sec. 13;

Secs. 14 and 15, those portions lying southeasterly of Mojave National Preserve;

Secs. 17 thru 21;

Sec. 22, those portions excluding Mineral Survey No. 5372AB, approved November 2, 1918;

Sec. 23;

Secs. 24 thru 26, those portions lying northwesterly of U.S. Interstate Highway 15;

Sec. 27, NE¼, S½NW¼, and those portions of NW¼SE¼ and SW¼ lying northerly of U.S. Interstate Highway 15;

Sec. 28, S½NE¼, N½SE¼, SW¼SE¼, and W½;

Secs. 29 and 30;

Secs. 31 and 32, those portions lying northwesterly of U.S. Interstate Highway 15.

T. 17 N., R. 12 E.,

Sec. 5, that portion lying westerly of BLM Mesquite Wilderness Area;

Sec. 6, that portion lying easterly of BLM Kingston Range Wilderness Area;

Sec. 8, those portions lying easterly of BLM Kingston Range Wilderness Area and westerly and southeasterly of BLM Mesquite Wilderness Area;

Secs. 9 and 10, those portions lying southeasterly of BLM Mesquite Wilderness Area;

Sec. 14, that portion lying northwesterly of Mojave National Preserve;

Sec. 15, those portions lying northwesterly of Mojave National Preserve;

Sec. 17, those portions lying northeasterly and southeasterly of BLM Kingston Range Wilderness Area;

Secs. 18 and 19, those portions lying southeasterly of BLM Kingston Range Wilderness Area;

Sec. 20;

Sec. 21, those portions lying northwesterly and westerly of Mojave National Preserve;

Sec. 28, that portion lying westerly of Mojave National Preserve;

Secs. 29 thru 32;

Sec. 33, that portion lying westerly of Mojave National Preserve.

T. 18 N., R. 12 E.,

Sec. 31, that portion lying easterly of Kingston Range Wilderness and westerly of Mesquite Wilderness;

Sec. 32, that portion lying westerly of Mesquite Wilderness.

T. 19 N., R. 12 E.,

Secs. 7 and 8, those portions lying southerly of BLM Pahrump Valley Wilderness Area;

Sec. 17, that portion lying northeasterly of BLM Mesquite Wilderness Area;

Sec. 18, that portion lying northerly of BLM Mesquite Wilderness Area.

T. 15 N., R. 11 E.,

Secs. 1 and 2, those portions lying northwesterly of U.S. Interstate Highway 15;

Sec. 3;

Sec. 4, those portions lying southeasterly Mineral Survey No. 3991AB, approved July 15, 1902;

Sec. 5, those portions lying southwesterly Mineral Survey No. 3991AB, approved July 15, 1902;

Secs. 6 and 7;

Sec. 8, that portion lying northwesterly of U.S. Interstate Highway 15;

Sec. 9, N½ and those portions of W½SE¼ and SW¼ lying northwesterly of U.S. Interstate Highway 15;

Sec. 10, those portions of W½NE¼ and W½ lying northwesterly of U.S. Interstate Highway 15;

Sec. 11 those portions lying northwesterly of U.S. Interstate Highway 15;

Secs. 17 and 18, those portions lying northwesterly of U.S. Interstate Highway 15.

T. 16 N., R. 11 E.,

Secs. 1 thru 6;

Sec. 7, those portions lying northerly, easterly, and westerly of Mineral Survey No. 3991AB, approved July 15, 1902;

Secs. 8 thru 15;

Sec. 17;

Sec. 18, those portions lying southeasterly and southwesterly of Mineral Survey No. 3991AB, approved July 15, 1902;

Secs. 19 thru 31;

Sec. 32, those portions lying northerly, westerly, and southerly of Mineral Survey No. 3991AB, approved July 15, 1902;

Sec. 33, those portions excluding Mineral Survey No. 3991AB, approved July 15, 1902;

Secs. 34 and 35.

T. 17 N., R. 11 E.,

Sec. 9, S½SE¼ and SE¼SW¼;

Sec. 10, that portion lying southerly of BLM Kingston Range Wilderness Area;

Sec. 15, that portion lying northwesterly of BLM Kingston Range Wilderness Area;

Sec. 20, NE¼NE¼SE¼;

Sec. 21;

Sec. 22, that portion lying southwesterly of BLM Kingston Range Wilderness Area;

Sec. 23, those portions lying southeasterly and southwesterly of Kingston Range Wilderness Area;

Sec. 24, that portion lying southeasterly of BLM Kingston Range Wilderness Area;

Secs. 25 and 26;

Sec. 27, those portions lying northerly, southerly, and easterly of BLM Kingston Range Wilderness Area;

Sec. 28, those portions lying northeasterly and southeasterly of BLM Kingston Range Wilderness Area;

Secs. 29 thru 31, those portions lying southeasterly of BLM Kingston Range Wilderness Area;

Secs. 32 thru 35.

T. 19 N., R. 11 E.,

Secs. 1 thru 3, those portions lying northwesterly of BLM Mesquite Wilderness Area;

Sec. 4, that portion lying northeasterly of BLM Mesquite Wilderness Area;

Sec. 5, that portion lying northerly of BLM Mesquite Wilderness Area;

Sec. 6, those portions lying southerly and easterly of BLM Pahrump Valley Wilderness Area and northerly and westerly of BLM Mesquite Wilderness Area;

Sec. 7;

Secs. 8 and 9, those portions lying southwesterly of BLM Mesquite Wilderness Area;

Sec. 17, that portion lying easterly of BLM Kingston Range Wilderness Area;

Sec. 20, that portion lying easterly of BLM Kingston Range Wilderness Area;

Sec. 21, that portion lying westerly of BLM Mesquite Wilderness Area;

Sec. 27, that portion lying southwesterly of BLM Mesquite Wilderness Area;

Sec. 28, that portion lying northeasterly of BLM Kingston Range Wilderness and southwesterly of BLM Mesquite Wilderness Area;

Sec. 29, that portion lying northeasterly of BLM Kingston Range Wilderness Area;

Sec. 33, that portion lying northeasterly of BLM Kingston Range Wilderness Area;

Sec. 34, that portion lying northeasterly of BLM Kingston Range Wilderness Area and southwesterly of BLM Mesquite Wilderness Area.

T. 20 N., R. 11 E.,

Sec. 29, that portion lying southerly of BLM Pahrump Valley Wilderness Area;

Sec. 30, that portion lying southeasterly of BLM Pahrump Valley Wilderness Area;

Sec. 31, that portion lying easterly of BLM Pahrump Valley Wilderness Area;

Sec. 32, that portion lying southerly and northeasterly of BLM Pahrump Valley Wilderness Area;

Secs. 33 thru 35, those portions lying southerly of BLM Pahrump Valley Wilderness Area.

T. 15 N., R. 10 E.,

Secs. 1 thru 6;

Sec. 7, that portion lying northeasterly of BLM Hollow Hills Wilderness Area;

Secs. 8 thru 12;

Sec. 13, that portion lying northwesterly of U.S. Interstate Highway 15;

Sec. 14;

Sec. 15, those portions excluding Mineral Survey No. 3993AB, approved July 22, 1902;

Sec. 17;

Secs. 18 and 19, those portions lying easterly of BLM Hollow Hills Wilderness Area;

Sec. 20;

Secs. 21 and 22, those portions lying northwesterly of U.S. Interstate Highway 15;

Sec. 23, N½NW¼, and that portion of the NE¼ lying northwesterly of U.S. Interstate Highway 15;

Sec. 24, that portion lying northwesterly of U.S. Interstate Highway 15;

Sec. 28, that portion lying northwesterly of U.S. Interstate Highway 15;

Sec. 29, N½, SW¼, and those portions of N½SE¼ and SW¼SE¼ lying northwesterly of U.S. Interstate Highway 15;

Sec. 30, that portion lying easterly and southerly of BLM Hollow Hills Wilderness Area;

Secs. 31 and 32, those portions lying northwesterly of U.S. Interstate Highway 15.

T. 16 N., R. 10 E.,

Secs. 1 and 2;

Secs. 3 and 4, those portions lying southerly and easterly of BLM Kingston Range Wilderness Area;

Sec. 7, those portions lying southeasterly and northwesterly of BLM Kingston Range Wilderness Area;

Secs. 8 and 9, those portions lying southeasterly of BLM Kingston Range Wilderness Area;

Secs. 10 thru 15;

Sec. 17;

Sec. 18, that portion lying southeasterly of BLM Kingston Range Wilderness Area;

Secs. 19 thru 30;

Sec. 31, those portions excluding Mineral Survey No. 3899 AB, approved October 19, 1901, and Mineral Survey No. 3992, approved July 17, 1902;

Sec. 32, those portions excluding Mineral Survey No. 3983, approved October 6, 1902, and Mineral Survey No. 3999, approved August 27, 1902;

Sec. 33, those portions excluding Mineral Survey No. 3999, approved August 27, 1902;

Secs. 34 and 35;

T. 17 N., R. 10 E.,

Sec. 35, that portion lying southeasterly of BLM Kingston Range Wilderness Area.

T. 19 N., R. 10 E.,

Sec. 1, that portion lying southwesterly of BLM Pahrump Valley Wilderness Area;

Secs. 2 thru 4;

Sec. 5, that portion lying northeasterly of BLM Kingston Range Wilderness Area;

Sec. 11, that portion lying northeasterly of BLM Kingston Range Wilderness Area;

Sec. 12.

T. 20 N., R. 10 E.,

Sec. 5, that portion lying southwesterly of BLM Pahrump Valley Wilderness Area;

Sec. 6, that portion lying southerly of BLM Pahrump Valley Wilderness Area;

Sec. 7;

Sec. 8, that portion lying southwesterly of BLM Pahrump Valley Wilderness Area;

Sec. 9, that portion lying southerly and westerly of BLM Pahrump Valley Wilderness Area;

Secs. 17 thru 20;

Sec. 21, that portion lying westerly of BLM Pahrump Valley Wilderness Area;

Secs. 27 and 28, that portion lying northerly, southerly, and westerly of BLM Pahrump Valley Wilderness Area;

Sec. 29;

Sec. 30, those portions excluding Mineral Survey No. 4723A, approved October 15, 1908, Mineral Survey No. 6173, approved April 2, 1936, Mineral Survey No. 6174, approved March 31, 1936, and Mineral Survey No. 6236, approved October 29, 1938;

Sec. 31, that portion lying northerly, easterly, and westerly of BLM Kingston Range Wilderness Area, excluding Mineral Survey No. 4723A, approved October 15, 1908, Mineral Survey No. 6173, approved April 2, 1936, Mineral Survey No. 6174, approved March 31, 1936, and Mineral Survey No. 6237, approved October 29, 1938;

Sec. 32, that portion lying northeasterly of BLM Kingston Range Wilderness Area, excluding Mineral Survey No. 4723, approved October 15, 1908, Mineral Survey No. 6173, approved April 2, 1936, Mineral Survey No. 6174, approved March 31, 1936, and Mineral Survey No. 6237, approved October 29, 1938;

Sec. 33;

Sec. 34, that portion lying southerly, easterly, and westerly of BLM Pahrump Valley Wilderness Area;

Sec. 35, that portion lying southerly of BLM Pahrump Valley Wilderness Area.

T. 21 N., R. 10 E.,

Sec. 7, that portion lying northwesterly of BLM Pahrump Valley Wilderness Area and southwesterly of an undefined boundary.

T. 14 N., R. 9 E.,

Sec. 1, that portion lying northwesterly of U.S. Interstate Highway 15;

Sec. 2;

Secs. 3 thru 5, those portions lying southeasterly of BLM Hollow Hills Wilderness Area;

Secs. 7 thru 9;

Secs. 10 and 11, those portions lying northwesterly of U.S. Interstate Highway 15;

Sec. 15, that portion lying northwesterly of U.S. Interstate Highway 15;

Secs. 17 thru 19;

Sec. 20, NW¼ and those portions of the E½ lying northwesterly of U.S. Interstate Highway 15;

Sec. 21, that portion lying northwesterly of U.S. Interstate Highway 15;

Sec. 30, E½NE¼NE¼NE¼ and NW¼NE¼NE¼.

T. 15 N., R. 9 E.,

Sec. 1, that portion lying northeasterly of BLM Hollow Hills Wilderness Area;

Secs. 2 and 3, those portions lying northerly of BLM Hollow Hills Wilderness Area;

Sec. 4, that portion lying northerly and northwesterly of BLM Hollow Hills Wilderness Area;

Sec. 5, that portion lying northwesterly of BLM Hollow Hills Wilderness Area;

Sec. 6;

Sec. 7 and 8, those portions lying northwesterly of BLM Hollow Hills Wilderness Area;

Sec. 12, that portion lying northeasterly of BLM Hollow Hills Wilderness Area;

Sec. 25, that portion lying southeasterly of BLM Hollow Hills Wilderness Area;

Secs. 34 and 35, those portions lying southeasterly of BLM Hollow Hills Wilderness Area.

T. 16 N., R. 9 E.,

Sec. 1, that portion lying easterly of BLM Kingston Range Wilderness Area;

Secs. 2 thru 8;

Sec. 9, that portion excluding Mineral Survey No. 5816, approved January 16, 1926, and Mineral Survey No. 5817, approved May 29, 1926;

Sec. 10, that portion excluding Mineral Survey No. 5817, approved May 29, 1926;

Sec. 11;

Sec. 12, that portion lying southwesterly and northwesterly of BLM Kingston Range Wilderness Area;

Sec. 13, that portion lying southerly and westerly of BLM Kingston Range Wilderness Area;

Secs. 14 and 15;

Secs. 17 thru 20;

Sec. 21, those portions excluding Mineral Survey No. 5235, approved May 19, 1916, Mineral Survey No. 5969, approved July 14, 1928, and Mineral Survey No. 6188, approved January 23, 1937;

Sec. 22, those portions excluding Mineral Survey No. 5235, approved May 19, 1916, the Tremolite Nos. 2 and 3, and Tremolite “C” portions of Mineral Survey No. 6188, approved January 23, 1937, and Mineral Survey No. 6204, approved July 28, 1937;

Secs. 23 thru 26;

Sec. 27, those portions excluding the Tremolite Nos. 3 and 4, and Tremolite “C” portions of Mineral Survey No. 6188, approved January 23, 1937, and Mineral Survey No. 6196, approved March 16, 1937;

Sec. 28, those portions excluding Mineral Survey No. 5235, approved May 19, 1916, and Mineral Survey No. 6188, approved January 23, 1937;

Secs. 29 thru 35.

T. 17 N., R. 9 E.,

Sec. 20, that portion lying southerly and westerly of BLM Kingston Range Wilderness Area;

Secs. 21 and 22, those portions lying southerly of BLM Kingston Range Wilderness Area;

Sec. 23, that portion lying southwesterly of BLM Kingston Range Wilderness Area;

Secs. 25 and 26, those portions lying southerly and westerly of BLM Kingston Range Wilderness Area;

Secs. 27 and 28;

Sec. 29, that portion lying southeasterly of BLM Kingston Range Wilderness Area;

Sec. 30, that portion lying southwesterly of BLM Kingston Range Wilderness Area;

Secs. 31 thru 35.

T. 19 N., R. 9 E.,

Secs. 5 and 6;

Secs. 7 and 8, that portion lying northerly of BLM Kingston Range Wilderness area;

Sec. 9, that portion lying northeasterly and southwesterly of BLM Kingston Range Wilderness Area.

T. 20 N., R. 9 E.,

Secs. 1 thru 3, those portions lying southerly of BLM Pahrump Valley Wilderness Area;

Secs. 4 and 5;

Secs. 6 and 7, those portions lying easterly of BLM South Nopah Range Wilderness Area;

Secs. 8 and 9;

Sec. 10, that portion lying southerly, easterly and westerly of BLM Pahrump Valley Wilderness Area;

Secs. 11 thru 15;

Sec. 17;

Secs. 18 and 19, those portions lying easterly and southerly of BLM South Nopah Range Wilderness Area;

Secs. 20 thru 24;

Sec. 25, that portion excluding Mineral Survey No. 6174, approved March 31, 1936;

Sec. 26, those portions excluding Mineral Survey No. 6171, approved March 31, 1936, and Mineral Survey No. 6172, approved March 31, 1936;

Secs. 27 thru 32;

Sec. 33, those portions excluding Mineral Survey No. 6280, approved January 26, 1942;

Sec. 34, those portions lying northerly of BLM Kingston Range Wilderness Area and excluding Mineral Survey No. 6280, approved January 26, 1942, and Mineral Survey No. 6497, approved August 8, 1951;

Sec. 35, those portions lying northerly of BLM Kingston Range Wilderness area, and excluding Mineral Survey No. 6172, approved March 31, 1936.

T. 20.5 N., R. 9 E.,

Sec. 31, that portion lying easterly of BLM South Nopah Range Wilderness Area;

Secs. 32 and 33.

T. 21 N., R. 9 E.,

Secs. 1 and 2, those portions lying southwesterly of an undefined boundary;

Sec. 3, that portion lying easterly of BLM Nopah Range Wilderness Area;

Secs. 9 and 10, that portion lying southeasterly of BLM Nopah Range Wilderness Area;

Sec. 11;

Sec. 12, that portion lying southwesterly of an undefined boundary;

Sec. 13, that portion lying northwesterly of BLM Pahrump Valley Wilderness Area;

Secs. 14 and 15;

Sec. 16, that portion lying southeasterly of BLM Nopah Range Wilderness Area;

Sec. 21, that portion lying southeasterly of BLM Nopah Range Wilderness Area;

Secs. 22 and 23;

Secs. 24 thru 26, that portion lying northwesterly of BLM Pahrump Valley Wilderness Area;

Sec. 27;

Sec. 28, that portion lying easterly of Nopah Range BLM Wilderness Area;

Sec. 32, that portion lying easterly of Nopah Range BLM Wilderness Area;

Sec. 33;

Secs. 34 and 35, those portions lying westerly and northwesterly of BLM Pahrump Valley Wilderness Area.

T. 21.5 N., R. 9 E.,

Sec. 34, that portion lying easterly of BLM Nopah Range Wilderness Area and southwesterly of an undefined boundary;

Sec. 35, that portion lying southwesterly of an undefined boundary.

T. 13 N., R. 8 E.,

Sec. 2, that portion lying westerly of U.S. Interstate Highway 15;

Sec. 3, that portion lying easterly of Soda Mountains Expansion ACEC 16;

Sec. 10, that portion lying easterly of Soda Mountains Expansion ACEC 16;

Sec. 11, that portion lying westerly of U.S. Interstate Highway 15;

Sec. 14, that portion lying northwesterly of U.S. Interstate Highway 15;

Sec. 15, that portion lying easterly of Soda Mountains Expansion ACEC 16.

T. 14 N., R. 8 E.,

Sec. 1, that portion lying easterly of California State Highway 127;

Sec. 12, that portion lying easterly of California State Highway 127;

Sec. 13, E½ and SW¼;

Sec. 14, that portion of S½ lying easterly of Soda Mountains Expansion Wilderness Study Area, Area of Critical Environmental Concern WSA ACEC 132;

Secs. 22 and 23, those portions lying northeasterly of Soda Mountains Expansion ACEC 16;

Sec. 24;

Sec. 25, W½SE¼NE¼, W½NE¼, and W½;

Sec. 26, NE¼, N½SE¼, N½SE¼SE¼, SW¼SE¼, and that portion of W½ easterly of Soda Mountains Expansion ACEC 16;

Sec. 35, S½SE¼NE¼, W½NE¼, SE¼, and that portion of W½ easterly of Soda Mountains Expansion ACEC 16.

T. 15 N., R. 8 E.,

Secs. 1 thru 3;

Sec. 4, those portions lying northeasterly of California State Highway 127 and southwesterly of an unidentified boundary;

Sec. 5, that portion lying southwesterly of an undefined boundary;

Sec. 8, that portion lying northwesterly of an undefined boundary;

Sec. 9, those portions lying northeasterly of California State Highway 127 and westerly of an undefined boundary;

Secs. 10 and 11;

Secs. 12 thru 14, those portions lying northwesterly of BLM Hollow Hills Wilderness Area;

Sec. 15, that portion lying easterly of California State Highway 127;

Sec. 17, that portion lying northwesterly of an undefined boundary;

Sec. 22, N½NE¼, and those portions of SE¼SE¼ and NW¼ lying northeasterly of California State Highway 127;

Sec. 23, that portion lying northwesterly of BLM Hollow Hills Wilderness Area.

T. 16 N., R. 8 E.,

Sec. 1, those portions excluding Mineral Survey No. 5020, approved March 7, 1913, and Mineral Survey No. 5021, approved February 26, 1913;

Sec. 2, those portions excluding Mineral Survey No. 5020, approved March 7, 1913, and Mineral Survey No. 5021, approved February 27, 1913;

Secs. 3 thru 5;

Secs. 6 and 7, those portions lying easterly of California State Highway 127 and westerly of an undefined boundary;

Secs. 8 thru 15;

Sec. 17;

Secs. 18 and 19, those portions lying easterly of California State Highway 127 and westerly of an undefined boundary;

Secs. 20 thru 28;

Secs. 29 and 30, those portions lying easterly of California State Highway 127 and westerly of an undefined boundary;

Sec. 31;

Sec. 32, those portions lying easterly of California State Highway 127 and westerly of an undefined boundary;

Secs. 33 thru 35.

T. 17 N., R. 8 E.,

Sec. 19, that portion lying southwesterly of BLM Kingston Range Wilderness area;

Sec. 23, that portion lying southeasterly of BLM Kingston Range Wilderness Area;

Sec. 24, that portion lying southerly and easterly of BLM Kingston Range Wilderness Area;

Sec. 25;

Sec. 26, that portion lying southeasterly of BLM Kingston Range Wilderness Area;

Secs. 27 thru 29, those portions lying southerly of BLM Kingston Range Wilderness Area;

Sec. 30, that portion lying southerly and westerly of BLM Kingston Range Wilderness Area;

Sec. 31, that portion lying northeasterly of California State Highway 127;

Secs. 32 thru 35.

T. 18 N., R. 8 E.,

Sec. 6, that portion lying southwesterly of BLM Kingston Range Wilderness Area and southeasterly of Dumont Dunes SRMA 32;

Sec. 7;

Sec. 8, that portion lying southwesterly of BLM Kingston Range Wilderness Area;

Sec. 17, that portion lying southwesterly of BLM Kingston Range Wilderness Area;

Secs. 18 and 19;

Sec. 20, that portion lying southwesterly of BLM Kingston Range Wilderness Area;

Sec. 28, that portion lying northerly and westerly of BLM Kingston Range Wilderness Area;

Secs. 29 thru 31, those portions lying northwesterly of BLM Kingston Range Wilderness Area.

T. 19 N., R. 8 E.,

Sec. 1, that portion lying northeasterly of BLM Kingston Range Wilderness Area;

Sec. 2, that portion lying westerly of BLM Kingston Range Wilderness Area;

Sec. 3, those portions lying northeasterly of BLM Kingston Range Wilderness Area, and excluding Mineral Survey No. 857, approved October 20, 1877, Mineral Survey No. 859, approved October 20, 1877, and Mineral Survey No. 4611, approved September 4, 1907;

Sec. 4, those portions excluding Mineral Survey No. 5730, approved April 12, 1924;

Sec. 5, that portion lying northerly, easterly and westerly of BLM Kingston Range Wilderness Area;

Sec. 10, those portions lying northerly, easterly, and westerly of BLM Kingston Range Wilderness Area, and excluding Mineral Survey No. 857, approved October 20, 1877, and Mineral Survey No. 859, approved October 20, 1877;

Sec. 11, that portion lying northwesterly of BLM Kingston Range Wilderness Area;

Sec. 31, that portion lying southwesterly of BLM Kingston Range Wilderness Area and northeasterly of Dumont Dunes SRMA 32.

T. 19.5 N., R. 8 E.,

Sec. 31, that portion lying northerly and westerly of BLM Kingston Range Wilderness Area;

Sec. 32, that portion lying northerly and easterly of BLM Kingston Range Wilderness Area;

Sec. 33, those portions excluding Mineral Survey No. 5730, approved April 12, 1924;

Sec. 34, those portions excluding Mineral Survey No. 4608, approved September 4, 1907;

Sec. 35, those portions excluding Mineral Survey No. 4608, approved September 4, 1907.

T. 20 N., R. 8 E.,

Sec. 6, that portion lying northwesterly of BLM South Nopah Range Wilderness Area;

Secs. 7 and 8, those portions lying southerly of BLM South Nopah Range Wilderness Area;

Sec. 9, those portions lying southerly and westerly of BLM South Nopah Range Wilderness Area and excluding Mineral Survey No. 829, approved September 25, 1877, Mineral Survey No. 4610, approved September 4, 1907, and Mineral Survey No. 4795, Approved January 12, 1910;

Sec. 10, those portions lying southerly and westerly of BLM South Nopah Range Wilderness Area and excluding Mineral Survey No. 4610, approved September 4, 1907;

Sec. 15, those portions lying southerly, easterly, and westerly of BLM South Nopah Range Wilderness and excluding Mineral Survey No. 4610, approved September 4, 1907, and Mineral Survey No. 6493, approved April 13, 1959;

Sec. 17, that portion lying westerly of BLM South Nopah Range Wilderness Area;

Secs. 18 and 19;

Sec. 20, that portion lying northerly, southerly, and westerly of BLM South Nopah Range Wilderness Area;

Sec. 21, that portion lying southerly, easterly, and westerly of BLM South Nopah Range Wilderness Area;

Sec. 22, those portions lying southeasterly of BLM South Nopah Range Wilderness Area and excluding Mineral Survey No. 4607, approved September 4, 1907, Mineral Survey No. 6493, approved April 13, 1959, and Mineral Survey No. 6494, approved January 27, 1960;

Sec. 23, those portions lying easterly of BLM South Nopah Range Wilderness Area and excluding Mineral Survey No. 4607, approved September 4, 1907, Mineral Survey No. 4609, approved September 4, 1907, and Mineral Survey No. 6493, approved April 13, 1959;

Sec. 25, that portion lying southeasterly of South BLM Nopah Range Wilderness Area;

Sec. 26, N½SW¼, NW¼, and those portions of E½ lying southerly and easterly of BLM South Nopah Range Wilderness Area;

Sec. 27, N½SE¼ and those portions of NE¼ and W½ excluding Mineral Survey No.6485, approved February 12, 1951;

Secs. 28 thru 31;

Secs. 32 and 33, those portions excluding Mineral Survey No. 5730, approved April 12, 1924;

Secs. 34 and 35.

T. 21 N., R. 8 E.,

Sec. 30, S½SE¼ and S½SW¼;

Sec. 31, N½NE¼, SE¼NE¼, S½SW¼, NW¼SW¼, and NW¼;

Sec. 32, that portion of S½SW¼ lying northwesterly of BLM South Nopah Range Wilderness Area.

T. 22 N., R. 8 E.,

Sec. 6, that portion lying southwesterly of BLM Nopah Range Wilderness Area;

Sec. 7, that portion lying westerly of BLM Nopah Range Wilderness Area;

Secs. 18 and 19, those portions lying westerly of BLM Nopah Range Wilderness Area;

Sec. 30, that portion lying westerly and northeasterly of BLM Nopah Range Wilderness Area.

T. 16 N., R. 7 E.,

Sec. 1;

Sec. 2, that portion lying easterly of Avawatz Mountains WSA ACEC 72;

Secs. 11 and 12, those portions lying northeasterly of Avawatz Mountains WSA ACEC 72;

Sec. 13, that portion lying easterly of Avawatz Mountains WSA ACEC 72;

Sec. 24, that portion lying southerly and easterly of Avawatz Mountains WSA ACEC 72;

Sec. 25;

Sec. 26, that portion lying easterly of Avawatz Mountains WSA ACEC 72;

Sec. 35, that portion lying easterly of Avawatz Mountains WSA ACEC 72.

T. 17 N., R. 7 E.,

Sec. 3, that portion lying northerly, southerly, and easterly of BLM Kingston Range Wilderness Area, and northeasterly of California State Highway 127;

Sec. 4, those portions lying northeasterly of California State Highway 127, and southwesterly of an undefined boundary;

Sec. 5, that portion lying northerly and easterly of Avawatz Mountains WSA ACEC 72;

Secs. 8 and 9, those portions lying northerly and easterly of Avawatz Mountains WSA ACEC 72;

Sec. 10, those portions lying southwesterly of BLM Kingston Range Wilderness Area, northeasterly of California State Highway 127, and southwesterly of an undefined boundary;

Sec. 11, those portions lying southwesterly of BLM Kingston Range Wilderness Area, northeasterly of California State Highway 127;

Sec. 13, those portions lying southwesterly of BLM Kingston Range Wilderness Area, northeasterly of California State Highway 127;

Sec. 14, those portions lying southwesterly of BLM Kingston Range Wilderness Area, northeasterly of California State Highway 127, and southwesterly of an undefined boundary;

Sec. 15, that portion lying northeasterly of Avawatz Mountains WSA ACEC 72;

Sec. 22, that portion lying northeasterly of Avawatz Mountains WSA ACEC 72;

Sec. 23, that portion lying southwesterly of an undefined boundary;

Secs. 24 and 25, those portions lying northerly and easterly of California State Highway 127, and southwesterly of an undefined boundary;

Sec. 26, that portion lying easterly of Avawatz Mountains WSA ACEC 72; sec. 35, that portion lying easterly of Avawatz Mountains WSA ACEC 72 and northerly and southerly of an undefined boundary.

T. 18 N., R. 7 E.,

Secs. 1 and 2, that portion lying southeasterly of Dumont Dunes SRMA 32;

Secs. 5 thru 11, those portions lying northerly, southerly, easterly, and westerly of Dumont Dunes SRMA 32;

Secs. 12 thru 15;

Sec. 17;

Secs. 18 and 19, those portions lying southerly and easterly of Dumont Dunes SRMA 32;

Secs. 20 thru 28;

Sec. 29, that portion lying northeasterly of California State Highway 127;

Sec. 30, those portions lying northerly and easterly of California State Highway 127, and southwesterly of an undefined boundary;

Sec. 31, that portion lying northerly, southerly, easterly, and westerly of Avawatz Mountains WSA ACEC 72;

Sec. 32, those portions lying northeasterly of California State Highway 127, southwesterly of an undefined boundary, and easterly of Avawatz Mountains WSA ACEC 72;

Sec. 33, those portions lying northerly and easterly of California State Highway 127, and southwesterly of an undefined boundary;

Secs. 34 and 35, those portions lying northwesterly of BLM Kingston Range Wilderness Area.

T. 19 N., R. 7 E.,

Secs. 6 and 7, those portions lying westerly of BLM Kingston Range Wilderness Area;

Sec. 18, that portion lying westerly of BLM Kingston Range Wilderness Area;

Secs. 19 thru 21;

Sec. 22, that portion lying westerly of BLM Kingston Range Wilderness Area;

Sec. 27, that portion of N½ lying westerly of BLM Kingston Range Wilderness Area and northerly of Dumont Dunes SRMA 32;

Sec. 28, that portion lying northwesterly of Dumont Dunes SRMA 32;

Secs. 29 thru 31;

Secs. 32 and 33, those portions lying northwesterly of Dumont Dunes SRMA 32.

T. 19.5 N., R. 7 E.,

Sec. 31, that portion lying westerly of BLM Kingston Range Wilderness Area.

T. 20 N., R. 7 E.,

Sec. 1, N½NE¼ and those portions of S½SE¼ and W½ lying northwesterly of BLM South Nopah Range Wilderness Area;

Secs. 2 and 3;

Sec. 4, S½NE¼, SE¼, SW¼, S½NW¼, and NW¼NW¼;

Secs. 5 thru 7;

Sec. 8, NE¼NE¼, E½NE¼SE¼NE¼, E½SE¼NE¼SE¼NE¼, SW¼SE¼NE¼SE¼NE¼, S½SE¼NE¼, SE¼SW¼NE¼SE¼NE¼, W½NW¼NE¼SE¼NE¼, W½NE½, SE¼, and W½;

Sec. 9, NE½NE¼, N½SE¼NE¼, N½SE¼SE¼NE¼, N½SW¼NE¼, and W½;

Sec. 10, NE¼, S½SE¼NE¼SE¼, SW¼NE¼SE¼, N½NW¼NE¼SE¼,S½SE¼SE¼, S½NE¼SW¼SE¼, NE¼NW¼SE¼, N½SE¼NW¼SE¼, S½SW¼NW¼SE¼, SE¼NW¼NW¼SE¼, N½SE¼NE¼SW¼, SE¼SE¼NE¼SW¼, N½SW¼NE¼SW¼, W½SE¼SW¼, SW¼SW¼, N½NW¼, and N½SW¼NW¼;

Sec. 11;

Sec. 12, that portion lying easterly and southerly of BLM South Nopah Range Wilderness Area;

Secs. 13 thru 21;

Sec. 22, E½, NE¼SW¼, W½SW¼, and NW¼;

Secs. 23 and 24;

Sec. 25, E½, E½SW¼, SW¼SW¼, E½NW¼, NW¼NW¼;

Sec. 26, N½, SE¼SE¼, and those portions depicted on the following plat: Mineral Survey No. 4732, approved January 22, 1903;

Sec. 27, NE¼, N½NW¼, SE¼NW¼, lots 1thru 2, W½ of lot 3, those portions lying easterly and westerly of BLM Kingston Range Wilderness Area, and those portions depicted as Nitre Beds Nos. 1, 2, 4, 12, and 13, Mineral Survey No. 4732, approved January 22, 1903;

Secs. 28 thru 30;

Secs. 31 and 32, those portions lying northerly and westerly of BLM Kingston Range Wilderness Area;

Sec. 33, that portion lying northerly and easterly of BLM Kingston Range Wilderness Area;

Sec. 34, those portions lying northerly, easterly, and westerly of BLM Kingston Range Wilderness Area;

Sec. 35, that portion lying northerly and westerly of BLM Kingston Range Wilderness Area.

T. 21 N., R. 7 E.,

Secs. 2 and 3, those portions lying southerly and westerly of BLM Nopah Range Wilderness Area;

Sec. 4;

Sec. 5, E½, E½SW¼, lot 5 and SE¼NW¼;

Sec. 6, W½SE¼NE¼, W½NE¼SE¼, W½SE¼SE¼, lots 6 thru 11, N½NE¼, SE¼NE¼, S½, SW¼NW¼, and N½NW¼ of lot 12, lots 13 thru 16, lots 18 thru 20, lots 21 thru 23, lots 26 thru 28, and lots 29 thru 31;

Secs. 7 thru 11;

Secs. 12 and 13, those portions lying westerly of BLM Nopah Range Wilderness Area;

Secs. 14 and 15;

Sec. 16, N½, N½SE¼, SW¼SE¼, and SW¼;

Secs. 17 thru 23;

Secs. 24 and 25, those portions lying westerly of BLM Nopah Range Wilderness Area;

Secs. 26 thru 32;

Sec. 33, NE¼, S½SW¼, NE¼NW¼, and W½NW¼;

Secs. 34 and 35.

T. 22 N., R. 7 E.,

Secs. 1 thru 7;

Sec. 8, N½, NE¼SE¼, W½SE¼, and SW¼;

Sec. 9, that portion excluding Mineral Survey No. 6072, approved April 12, 1930;

Secs. 10 and 11;

Sec. 12, E½ and NW¼;

Sec. 14, W½;

Sec. 15;

Sec. 17, that portion excluding Mineral Survey No. 6746, approved June 21, 1967;

Sec. 18;

Sec. 19, N½, N½SE¼, SE¼SE¼, lots 11, 12, and 15;

Sec. 20;

Sec. 21, that portion lying northerly and westerly of California State Highway 178, and westerly of BLM Nopah Range Wilderness Area;

Sec. 22, that portion lying northerly of California State Highway 178;

Sec. 23, that portion lying northerly of California State Highway 178, and easterly of BLM Nopah Range Wilderness Area;

Sec. 24, N½SE¼, SE¼SE¼, NE¼SW¼, W½SW¼, and W½NW¼;

Sec. 25, that portion lying northeasterly of BLM Nopah Range Wilderness Area;

Sec. 28, that portion lying southwesterly of BLM Nopah Range Wilderness Area;

Sec. 29;

Sec. 30, lots 3 thru 9, E½NE¼ and E½SE¼;

Sec. 31, lots 4 thru 7, and lots 11 thru 14, and SW¼SE¼;

Sec. 32, N½, SE¼, E½SW¼, and NW¼SW¼;

Secs. 33 and 34, those portions lying southwesterly of BLM Nopah Range Wilderness Area.

T. 23 N., R. 7 E.,

Sec. 23, that portion lying easterly of BLM Resting Springs Wilderness Area and westerly of California State Highway 178;

Sec. 24, that portion lying westerly of California State Highway 178;

Sec. 25, that portion lying southwesterly of BLM Nopah Range Wilderness Area;

Sec. 26, that portion lying easterly of BLM Resting Springs Wilderness Area and westerly of California State Highway 178;

Secs. 33 thru 35.

T. 17 N., R. 6 E.,

Sec. 5, that portion lying easterly of Death Valley WSA ACEC 17 and northwesterly of Sheep Creek Springs Road;

T. 18 N., R. 6 E.,

Sec. 1, that portion lying northeasterly of California State Highway 127, and northwesterly of Dumont Dunes SRMA 32;

Sec. 2, that portion lying northeasterly of California State Highway 127;

Sec. 12, that portion lying northeasterly of California State Highway 127, and northwesterly of Dumont Dunes SRMA 32;

Sec. 15, that portion lying southerly of Death Valley National Park;

Sec. 17, that portion lying southerly of Death Valley National Park and easterly of Death Valley WSA ACEC 17;

Sec. 20, that portion lying easterly of Death Valley WSA ACEC 17;

Sec. 21;

Secs. 22 and 23, that portion lying southerly of Death Valley National Park;

Sec. 24, those portions lying easterly of California State Highway 127, southerly of Death Valley National Park, and easterly of an undefined boundary;

Sec. 25, those portions lying northeasterly of California State Highway 127 and southwesterly of an undefined boundary;

Sec. 26, that portion lying easterly and westerly of an undefined boundary;

Secs. 27 and 28, those portions lying easterly and westerly of Sheep Creek Springs Road right-of-way;

Sec. 29, that portion lying easterly of Death Valley WSA ACEC 17;

Sec. 32, that portion lying easterly of Death Valley WSA ACEC 17 and northwesterly of Sheep Creek Springs Road;

Sec. 33, that portion lying northerly and westerly of Sheep Creek Springs Road, and northerly and easterly of Avawatz Mountains WSA ACEC 72;

Sec. 34, that portion lying northerly of Avawatz Mountains WSA ACEC 72;

Sec. 35, those portions lying northerly of Avawatz Mountains WSA ACEC 72, and easterly and westerly of an undefined boundary.

T. 19 N., R. 6 E.,

Secs. 1 and 2;

Secs. 3 and 4, those portions lying southeasterly of BLM Saddle Peak Hills Wilderness Area, and northeasterly of Death Valley National Park;

Secs 10 and 11, those portions lying northeasterly of California State Highway 127;

Secs. 12 and 13;

Sec. 14, that portion lying easterly of California State Highway 127;

Sec. 23, that portion lying easterly of California State Highway 127;

Secs. 24 and 25;

Sec. 26, that portion lying easterly of California State Highway 127;

Sec. 35, that portion lying easterly of California State Highway 127;

Sec. 36, W½SW¼, W½NW¼, and that portion described in easement deed CACA 20608.

T. 19.5 N., R. 6 E.,

Sec. 34, that portion lying easterly of California State Highway 127;

Sec. 35.

T. 20 N., R. 6 E.,

Sec. 1;

Sec. 2, that portion lying southeasterly of BLM Ibex Wilderness Area;

Sec. 3, that portion lying southerly and easterly of BLM Ibex Wilderness Area;

Sec. 10, that portion lying easterly of BLM Ibex Wilderness Area;

Secs. 11 thru 14;

Sec. 15, that portion lying easterly of BLM Ibex Wilderness Area;

Secs. 21 and 22, those portions lying southeasterly of BLM Ibex Wilderness Area;

Secs. 23 thru 27;

Sec. 28, that portion lying northerly and easterly of BLM Saddle Peak Hills Wilderness Area;

Sec. 29, that portion lying easterly of Death Valley National Park and northerly of BLM Saddle Peak Hills Wilderness Area;

Sec. 33, that portion lying easterly of BLM Saddle Peak Hills Wilderness Area.

Secs. 34 and 35.

T. 21 N., R. 6 E.,

Secs. 1 thru 4;

Secs 5 thru 6, those portions lying northerly and easterly of BLM Ibex Wilderness Area;

Secs. 8 and 9, those portions lying northerly and easterly of BLM Ibex Wilderness Area;

Secs 10 thru 14;

Sec. 15, that portion lying northeasterly of BLM Ibex Wilderness Area;

Secs. 22 thru 24, those portions lying northeasterly of BLM Ibex Wilderness;

Sec. 25, that portion lying northerly, southerly, and easterly of BLM Ibex Wilderness Area;

Secs. 35 and 36, those portions lying southeasterly of BLM Ibex Wilderness Area.

T. 22 N., R. 6 E.,

Sec. 1, that portion lying easterly of California State Highway 127;

Secs. 12 and 13, those portions lying easterly of California State Highway 127;

Secs. 21 thru 24, those portions lying southerly and easterly of California State Highway 178;

Sec. 25, N½, N½SE¼, W½SE¼SE¼, SW¼SE¼, and SW¼;

Secs. 26 and 27;

Secs. 28 and 29, those portions lying southerly and easterly of California State Highway 178;

Sec. 31, that portion lying southerly and easterly of California State Highway 178 and northeasterly of BLM Ibex Wilderness Area;

Sec. 32, that portion lying southerly and easterly of California State Highway 178;

Secs. 33 thru 35.

The Amargosa area of the California Desert National Conservation Lands described aggregate 417,894 acres in Inyo and San Bernardino Counties.

Big Morongo Area

San Bernardino Meridian

T. 1 N., R. 5 E.,

Sec. 4.

T. 2 N., R. 5 E.,

Sec. 4, that portion lying southwesterly of California State Highway 247;

Secs. 5 thru 9;

Sec. 10, NW¼NW¼NW¼ and SW¼SW¼;

Sec. 15, NE¼NW¼NW¼, W½NW¼NW¼, NW¼SW¼NW¼, W½SE¼SW¼NW¼, W½SW¼SW¼SW¼, N½NE¼SW¼, SW¼NE¼SW¼, NW¼SW¼, N½SW¼SW¼ and SW¼SW¼SW¼;

Secs. 16 thru 21;

Secs. 28 thru 33.

T. 2 N., R. 4 E.,

Sec. 6, that portion lying southwesterly of the boundary of the BLM Bighorn Mountain Wilderness Area;

Sec. 7;

Sec. 8, that portion lying northerly of the boundary of the BLM Bighorn Mountain Wilderness Area;

Sec. 9, that portion lying northeasterly of the boundary of the BLM Bighorn Mountain Wilderness Area;

Secs. 10 thru 12;

Sec. 13, N½NE¼, N½SE¼NE¼, N½SW¼NE¼, SW¼SW¼NE¼, N½SE¼SW¼NE¼, NW¼, SW¼, N½NE¼NE¼SE¼, S½NW¼NE¼SE¼, SE¼NE¼SE¼, S½SW¼NE¼SE¼, NW¼NW¼SE¼, S½NW¼SE¼ and S½SE¼;

Sec. 14, NE¼, NW¼, N½SW¼, SE¼SW¼ and SE¼;

Sec. 15, E½NE¼;

Sec. 16, N½NE¼, NE¼NW¼ and NW¼NW¼ that portion lying northeasterly of the boundary of the BLM Bighorn Mountain Wilderness Area;

Sec. 18.

T. 2 N., R. 3 E.,

Sec. 1;

Sec. 2, S½SW¼ and S½SE¼;

Secs. 10 thru 12;

Secs. 14 and 15;

Secs. 22 and 24;

T. 3 N., R. 5 E.,

Sec. 19, that portion lying southwesterly of California State Highway 247;

Sec. 20, that portion lying southwesterly of California State Highway 247;

Sec. 28, lot 5 that portion lying southwesterly of California State Highway 247;

Sec. 29, that portion lying southwesterly of California State Highway 247;

Secs. 30 thru 32;

Sec. 33, lots 4 and 6, that portion lying southwesterly of California State Highway 247, lot 5, S½NE¼SW¼, N½NW¼NE¼SW¼, NE¼NW¼SW¼, S/12NW¼NW¼SW¼, S½NW¼SW¼, N½NE¼SW¼, SW¼, NW¼SW¼SW¼, SE¼SW¼SW¼, SE¼SW¼ and SW¼SE¼ that portion lying southwesterly of California State Highway 247.

T. 3 N., R. 4 E.,

Sec. 19, lots 7 thru 14;

Sec. 20, SW¼SW¼SE¼NE¼, S½S½SW¼NE¼, S½S½SE¼, NW¼, S½S½SW¼NW¼, SW¼, NW¼NE¼SE¼, SW¼NE¼SE¼, W½SE¼NE¼SE¼, NW¼SE¼, N½ SW¼SE¼, SW¼SW¼SE¼, W½SE¼SW¼SE¼, W½NE¼SE¼SE¼, NW¼SE¼SE¼, E½SW¼SE¼SE¼ and SE¼SE¼SE¼;

Sec. 21, lots 5 thru 8, S½SW¼ and S½SE¼;

Sec. 22, lots 1 thru 4, S½SW¼ and S½SE¼;

Secs. 23 thru 26;

Sec. 27, NE¼, NW¼, N½SW¼ and N½SE¼;

Sec. 28, N½NE¼ and N½N½NW¼;

Sec. 29, N½N½NE¼ and N½N½NW¼;

Sec. 30, N½N½NE¼, N½NE¼NW¼ and N½ lot 1;

Sec. 35, NE¼;

Sec. 36, lots 1 thru 4, W½NE¼, NW¼, NE¼SW¼ and NW¼SE¼.

T. 3 N., R. 3 E.,

Secs. 5 thru 8;

Secs. 14 thru 18;

Sec. 19, N½;

Sec. 20, N½, N½S½;

Sec. 21, N½, N½S½;

Sec. 22, N½, N½S½;

Sec. 23, N½, N½S½.

T. 3 N., R. 2 E.,

Sec. 1;

Secs. 3 and 4;

Sec. 5, that portion lying southeasterly of an unnamed road;

Sec. 6, that portion lying southerly of an unnamed road; Protracted Block 38;

Sec. 8, excluding a portion of Mineral Survey No. 5659 A, approved September 30, 1922;

Secs. 9 thru 16; Protracted Block 43; Protracted Block 42; Protracted Block 41 that portion lying northwesterly of the boundary of the BLM Bighorn Mountain Wilderness Area.

T. 3 N., R. 1 E.,

Sec. 1, lot 1, lots 2 thru 4 and lots 7 and 8 those portions lying southwesterly of an unidentified boundary, lots 5 and 6, lots 9 thru 12, and S½;

Sec. 2, lots 1 thru 12, NE¼SE¼ and SE¼SE¼;

Sec. 3, lots 71 thru 74, lots 81 thru 83, and lots 87 thru 91;

Sec. 10, NW¼NW¼, S½NW¼ and SW¼;

Sec. 11, NE¼ and SE¼NW¼;

Sec. 12, NE¼, NW¼ and SE¼.

T. 4 N., R. 2 E.,

Sec. 20, SE¼SE¼ that portion lying southeasterly of a line projecting from the Section corner of sections 31 and 32 only, T. 4 N., R. 2 E. and the NW 1/16 corner of section 21,

T. 4 N., R. 2 E., hereinafter referred to as “projection line”;

Sec. 21, SW¼ that portion lying southeasterly of Highway 247, S½SE¼NE¼ that portion southwesterly of Highway 247, SW¼NW¼ that portion lying southeasterly of “projection line”, SE¼NW¼, NE¼SW¼, NW¼SW¼ that portion lying southeasterly of “projection line”, SW¼SW¼ that portion lying southeasterly of “projection line”, E½SW¼ and SE¼;

Sec. 22, NE¼SW¼ that portion lying southwesterly of Highway 247, NW¼SW¼ and S½SW¼;

Sec. 23, N½SW¼ that portion lying southwesterly of Highway 247, S½SW¼ and S½SE¼ that portion lying southwesterly of Highway 247;

Sec. 26, W½NE¼, NW¼, SW¼ and SE¼;

Secs. 27 and 28;

Sec. 29, E½NE¼ that portion lying southeasterly of “projection line”, SW¼NE¼ that portion lying southeasterly of “projection line”, W½SE¼ that portion lying southeasterly of “projection line” and E½SE¼;

Sec. 32, NE¼ and E½NW¼ that portion lying southeasterly of “projection line”;

Secs. 33 thru 35.

T. 4 N., R. 1 E.,

Sec. 35, SE¼.

The Big Morongo area of the California Desert National Conservation Lands described aggregates 94,744 acres in San Bernardino County.

Chuckwalla Bench and Dos Palmas Area

San Bernardino Meridian

T. 4 S., R. 14 E.,

Sec. 24, that portion lying southeasterly of Chuckwalla ACEC;

Sec. 25, that portion lying northeasterly of Joshua Tree National Park boundary.

T. 4 S., R. 15 E.,

Sec. 20, NE¼, NE¼SE¼, N½SE¼SE¼, N½NW¼SE¼, SE¼NW¼SE¼, N½NE¼SW¼, NW¼SW¼, and NW¼;

Sec. 21, SE¼SE¼ that portion lying southwesterly of unnamed road, NE¼SW¼SE¼ that portion lying southwesterly of unnamed road, SE¼SW¼SE¼, NW¼SW¼SE¼, NW¼SE¼ that portion lying southwesterly of unnamed road, NE¼SW¼ that portion lying southwesterly of unnamed road, N½SE¼SW¼, N½SW¼SW¼, NW¼SW¼, NW¼ that portion lying southwesterly of unnamed road;

Sec. 27, SW¼NE¼SW¼ that portion lying westerly of Kaiser Road, SE¼SW¼ that portion lying westerly of Kaiser Road, SW¼SW¼, NW¼SW¼, NW¼NE¼NW¼ that portion lying westerly of Kaiser Road;

Sec. 28, NW¼NE¼NE¼, SW¼SW¼NE¼, NE¼NW¼NE¼, SE¼, SW¼, S½SE¼NW¼, S½SW¼NW¼, NW¼SW¼NW¼;

Sec. 29, S½NE¼NE¼, SE¼NE¼, SW¼NE¼, SE¼NW¼NE¼, SW¼NW¼NE¼, NW¼NW¼NE¼, SE¼, SW¼, and NW¼;

Sec. 30, that portion lying northeasterly of Joshua Tree National Park boundary;

Sec. 31, that portion lying southeasterly of Joshua Tree National Park boundary;

Secs. 32 and 33;

Sec. 34, that portion lying westerly of Kaiser Road.

T. 5 S., R. 9 E.,

Sec. 26, that portion lying southwesterly of Joshua Tree National Park.

T. 5 S., R. 13 E.,

Sec. 25, the S½SE¼, S½SW¼, and lots 6 thru 15;

Sec. 26, the S½SE¼ and lots 5 thru 14;

Sec. 27, lots 8 thru 10;

Sec. 28, lots 9 and 10;

Sec. 29, lots 5 thru 8;

Sec. 30, lots 10 thru 13, and lots 18 thru 21;

Sec. 34, lot 1;

Sec. 35, lots 1 thru 4.

T. 5 S., R. 14 E.,

Sec. 1, that portion lying southerly and easterly of Joshua Tree National Park;

Sec. 12, that portion lying southerly and easterly of Joshua Tree National Park excluding Tract 37;

Sec. 13, that portion excluding Tract 37;

Sec. 14, that portion lying southerly and easterly of Joshua Tree National Park;

Secs. 22 and 23, those portions lying southerly and easterly of Joshua Tree National Park;

Secs. 24 and 26;

Sec. 27, N½, N½SE¼, and N½SW¼;

Sec. 28, those portions excluding aqueduct corridor LA 051310; aqueduct, transmission line, road, substation etc. LA 051424, aqueduct, telephone, transmission line, water line, etc. LA 051571, transmission line and road corridor LA 052059, ROW tram road LA 0121701, aqueduct (sanitary protection) LA 0118168 and aqueduct (diagonal drains) LA 053393;

Sec. 30, those portions lying southerly of Joshua Tree National Park, excluding aqueduct corridor LA 051310, aqueduct (sanitary protection) LA 0118168 and aqueduct (diagonal drains) LA 053393;

Sec. 32, E½NE¼, SW¼NE¼, S½NW¼NE¼, NE¼NW¼NE¼, S½, SE¼NW¼, and S½SE¼NW¼;

Sec. 34.

T. 5 S., R. 15 E.,

Sec. 3, W½ of lot 1 and W½ of lot 2 in the NE¼, lots 1 and 2 in the NW¼ and S½;

Secs. 4 thru 9;

Sec. 10, W½NE¼, W½SE¼, and W½;

Sec. 15, W½SE¼, SW¼, and NW¼NW¼;

Secs. 17 and 18;

Sec. 19, N½ and SE¼;

Secs. 20 and 21;

Sec. 22, W½ NE¼ and NW¼;

Sec. 25, that portion lying southwesterly of Chuckwalla SRMA 4;

Sec. 26, S½;

Sec. 27, SE¼, SE¼SW¼, and S½SW¼NW¼;

Sec. 28;

Sec. 29, E½;

Sec. 32, N½, SE¼, and N½SW¼;

Sec. 33, N½ and SW¼SW¼;

Secs. 34 and 35.

T. 5 S., R. 16 E.,

Secs. 29 and 30, those portions lying southwesterly of Chuckwalla SRMA 4;

Sec 31, that portion lying northerly of BLM Chuckwalla Mountain Wilderness Area;

Sec. 32, that portion lying northerly and easterly of BLM Chuckwalla Mountain Wilderness Area.

T. 6 S., R. 9 E.,

Sec. 2;

Sec. 10, that portion lying northerly of BLM Mecca Hills Wilderness Area;

Sec. 11, those portions of the SE¼NE¼, E½SW¼NE¼, SE¼SE¼NW¼, and E½SW¼SW¼NW¼ lying northerly of BLM Mecca Hills Wilderness Area;

Sec. 12, that portion lying northerly of BLM Mecca Hills Wilderness Area.

T. 6 S., R. 10 E.,

Sec. 2, lots 1 thru 4, and S½N½;

Sec. 4, S½NE¼, lots 1 and 2, SW¼, S½NW¼, and that portion of the W½ of lot 4 lying southerly of Pinkham Canyon Road;

Sec. 6, SE¼NE¼, S½, S½SE¼NW¼, NW¼SE¼NW¼, W½ of lot 3 and lots 4 thru 5;

Secs. 7 and 8;

Sec. 12, that portion excluding aqueduct corridor LA 051059;

Sec. 18, that portion lying northwesterly of BLM Mecca Hills Wilderness Area;

Sec. 23, that portion lying northeasterly of BLM Mecca Hills Wilderness Area;

Sec. 24, that portion excluding aqueduct corridor LA 051672;

Sec. 25;

Sec. 26, that portion lying northerly, southerly, and easterly of BLM Mecca Hills Wilderness Area;

Sec. 35, that portion lying northerly and easterly of BLM Mecca Hills Wilderness Area.

T. 6 S., R. 11 E.,

Sec. 2, that portion lying southerly of aqueduct corridor LA 051291;

Sec. 4, W½ of lot 4, those portions of the S½NW¼ and lot 2 lying northerly of aqueduct corridor LA 051291, and those portions of the S½SW¼NE¼, S½NW¼, and S½ lying northerly, southerly, and easterly of aqueduct corridor LA 051291 and aqueduct corridor LA 051059;

Sec. 6, lots 3 thru 8, and those portions of the SW¼ NE¼, S½, and lots 1 and 2 lying northerly, southerly, easterly and westerly of aqueduct, road, transmission line, camp etc. LA 051291, aqueduct corridor LA 051266 and aqueduct corridor LA 051672;

Sec. 8, excluding aqueduct corridor LA 051059 and aqueduct corridor LA 051266;

Sec. 10;

Sec. 18, S½ and NW¼;

Secs. 20, 22, 24, and 26;

Sec. 30, N½.

T. 6 S., R. 12 E.,

Sec. 2, that portion lying southeasterly of aqueduct corridor, road, transmission line, etc. LA 051311, excluding aqueduct corridor LA 051310 and aqueduct corridor, gravel pad, road, etc. LA 052426;

Sec. 4, that portion lying southerly of aqueduct corridor, road, transmission line, etc. LA 051311, excluding aqueduct corridor, transmission line LA 051266;

Sec. 6, that portion lying southerly of aqueduct corridor, road, transmission line, etc. LA 051311, westerly of aqueduct corridor, camp, etc. LA 052369, and northerly of aqueduct corridor LA 051058;

Sec. 8;

Sec. 11; those portions lying southerly of U.S. Interstate Highway 10 excluding unidentified corridors in the S½;

Sec. 12;

Secs. 13 and 14, those portions lying northerly of BLM Orocopia Mountains Wilderness Area;

Sec. 15, that portion of the S½ lying northerly and westerly of BLM Orocopia Mountains Wilderness Area;

Secs. 20, 22, and 30;

Sec. 31, S½SW¼SW¼ and NW¼NW¼;

Sec. 32.

T. 6 S., R. 13 E.,

Sec. 1, that portion of R/W, drainage areas R 01731 in the W½;

Sec. 2, that portion of R/W, drainage areas R 01731 and R 07303;

Sec. 3, that portion of R/W, drainage area R 01731;

Sec. 6, excluding aqueduct corridor LA 051310;

Sec. 8, S½;

Secs. 10 and 11;

Sec. 12, S½ and NW¼;

Secs. 13 and 14;

Sec. 15, SW¼;

Sec. 17, SW¼SE¼;

Sec. 18, N½NE¼ and N½NW¼;

Sec. 22;

Sec. 23, W½NW¼;

Sec. 24;

Sec. 25, S½NE¼NE¼ and SE¼SW¼SW¼;

Sec. 26;

Sec. 27, N½NE¼NE¼, SE¼NE¼NE¼, and S½SE¼NE¼;

Sec. 33, N½NE¼NE¼, SW¼ NE¼NE¼, S½NW¼SW¼, S½SE¼NW¼, and S½SW¼NW¼;

Sec. 34;

Sec. 36, N½SE¼, N½SW¼SW¼, S½NW¼SW¼, NE¼NW¼SW¼, and SE¼NW¼.

T. 6 S., R. 14 E.,

Secs. 1 and 2, that portion lying northerly, easterly, and westerly of BLM Chuckwalla Mountains Wilderness Area;

Sec. 3, those portions of the NE¼ and S½ lying northerly and westerly of BLM Chuckwalla Mountains Wilderness Area, and northeasterly and southwesterly of aqueduct corridor, road, gravel deposit, etc., LA 052082;

Sec. 4, those portions of the NE¼ and S½ lying northerly, southerly, easterly, and westerly of aqueduct corridor, road, gravel deposit, etc., LA 052082;

Sec. 5, that portion lying southerly of Patent No. 790933;

Sec. 6, E½;

Sec. 7, S½ and that portion of the NE¼ lying southwesterly of Summit Road;

Sec. 8;

Sec. 9; excluding a portion of Patent No. 790933;

Sec. 10, that portion lying westerly of BLM Chuckwalla Mountains Wilderness Area;

Sec. 15, that portion lying westerly of BLM Chuckwalla Mountains Wilderness Area;

Secs. 16 thru 21;

Secs. 22 thru 25, those portions lying southerly and westerly of BLM Chuckwalla Mountains Wilderness Area;

Secs. 26 thru 32;

Sec. 33, NE¼NE¼, S½SE¼NE¼, NE¼SW¼NE¼, N½NW¼NE¼, S½NE¼SE¼, S½SE¼, NW¼SE¼, and W½;

Secs. 34 thru 35.

T. 6 S., R. 15 E.,

Secs 1 and 2, those portions lying northerly and easterly of BLM Chuckwalla Mountains Wilderness Area;

Sec. 3, that portion lying northerly, easterly, and westerly of BLM Chuckwalla Mountains Wilderness Area;

Sec. 4, that portion lying northerly of BLM Chuckwalla Mountains Wilderness Area;

Sec. 5, that portion lying northerly, easterly, and westerly of BLM Chuckwalla Mountains Wilderness Area;

Sec. 6, that portion lying northerly and easterly of BLM Chuckwalla Mountains Wilderness Area;

Sec. 13, that portion lying southerly, easterly, and westerly of BLM Chuckwalla Mountains Wilderness Area;

Sec. 15, that portion lying southerly, easterly, and westerly of BLM Chuckwalla Mountains Wilderness Area;

Secs. 22 thru 23, those portions lying northerly, southerly, easterly, and westerly of BLM Chuckwalla Mountains Wilderness Area;

Sec. 24, that portion lying southerly, easterly, and westerly of BLM Chuckwalla Mountains Wilderness Area, excluding Mineral Survey No. 6400B, approved March 26, 1948;

Sec. 25;

Sec. 26, that portion lying northerly and easterly of BLM Chuckwalla Mountains Wilderness Area;

Sec. 29, that portion lying southerly and westerly of BLM Chuckwalla Mountains Wilderness Area;

Sec. 30, that portion lying southerly and easterly of BLM Chuckwalla Mountains Wilderness Area, excluding Mineral Survey No. 3837B, approved August 3, 1901, and Mineral Survey No. 3838, approved August 9, 1901;

Sec. 31, excluding Mineral Survey No. 3837B, approved August 3, 1901;

Sec. 32, that portion lying southerly and easterly of BLM Chuckwalla Mountains Wilderness Area, excluding Mineral Survey No. 3837A, approved August 3, 1901 and Mineral Survey No. 5059A, approved July 29, 1913.

T. 6 S., R. 16 E.,

Secs. 19 thru 21, those portions lying southerly and westerly of BLM Chuckwalla Mountains Wilderness Area;

Secs. 28 and 29, those portions lying northerly and westerly of BLM Chuckwalla Mountains Wilderness Area;

Secs 30 and 31, those portions lying northerly and westerly of BLM Chuckwalla Mountains Wilderness Area, excluding Mineral Survey No. 5058, approved August 7, 1913.

T. 6 S., R. 17 E.,

Sec. 36, E½SE¼ and those portions of the SE¼NE¼ and E½NW¼SE¼ lying southeasterly of BLM Chuckwalla Mountains Wilderness Area.

T. 6 S., R. 18 E.,

Sec. 31, that portion lying southwesterly of Chuckwalla SRMA 4.

T. 7 S., R. 11 E.,

Sec. 34.

T. 7 S., R. 13 E.,

Secs. 2 thru 4;

Secs. 9 and 10;

Sec. 11, W½;

Sec. 12;

Sec. 13, NE¼NE¼, S½NE¼, SE¼SE¼, NW¼SE¼, and N½SW¼;

Sec. 14;

Sec. 15, N½SW¼, SW¼SW¼, and SW¼NW¼;

Sec. 17, W½NE¼;

Sec. 20, that portion lying easterly of BLM Orocopia Mountains Wilderness Area;

Sec. 22, that portion lying northerly and westerly of Chocolate Mountains Aerial Gunnery Range;

Sec. 31, that portion lying easterly of BLM Orocopia Mountains Wilderness Area and northerly of Chocolate Mountains Aerial Gunnery Range;

T. 7 S., R. 14 E.,

Sec. 1, that portion lying northerly, southerly, and easterly of BLM Chuckwalla Mountains Wilderness Area;

Secs. 2 thru 6;

Sec. 7, N½NE¼, SE¼NE¼, S½, N½NW¼, and SE¼NW¼;

Sec. 8;

Sec. 9, N½;

Secs. 10 thru 14;

Sec. 15, W½NE¼, S½SE¼, NW¼SE¼, and W½;

Sec. 16, N½SE¼, SE¼SE¼, and W½NW¼;

Secs. 17 and 18;

Sec. 19, that portion lying northerly and easterly of Chocolate Mountains Aerial Gunnery Range;

Sec. 20, N½, SE¼, N½SW¼, and SE¼SW¼;

Secs. 21 and 22;

Sec. 23, E½NE¼, SE¼, and W½;

Sec. 24;

Sec. 25, N½;

Secs. 26 thru 28, those portions lying northerly of Chocolate Mountains Aerial Gunnery Range.

T. 7 S., R. 15 E.,

Secs. 5 thru 7, those portions lying northerly, southerly, easterly, and westerly of BLM Chuckwalla Mountains Wilderness Area;

Sec. 8, that portion lying northerly, easterly, and westerly of BLM Chuckwalla Mountains Wilderness Area;

Sec. 15, that portion lying southerly, easterly, and westerly of BLM Chuckwalla Mountains Wilderness Area;

Sec. 17, that portion lying southerly, easterly, and westerly of BLM Chuckwalla Mountains Wilderness Area;

Sec. 18, that portion lying southerly and westerly of BLM Chuckwalla Mountains Wilderness Area;

Sec. 19, N½NE¼, SE¼, and W½;

Secs. 20 thru 22, those portions lying southerly, easterly, and westerly of BLM Chuckwalla Mountains Wilderness Area;

Sec. 28;

Sec. 29, N½NE¼, NW¼SW¼NE¼, N½SE¼, SW¼SE¼, N½SW¼, SE¼SW¼, N½NW¼, and SW¼NW¼;

Sec. 30, that portion lying northerly of Chocolate Mountains Aerial Gunnery Range;

Sec. 33, NE¼NE¼NE¼, N½SE¼NE¼NE¼, E½SE¼SE¼NE¼NE¼, N½NW¼NE¼NE¼, SW¼NW¼NE¼NE¼, S½NE¼SE¼NE¼,W½NW¼SE¼NE¼, E½SE¼NW¼NE¼, NW¼SE¼NW¼NE¼, SW¼NW¼NE¼, E½NE¼NW¼, NW¼NE¼NW¼, N½NW¼NW¼, and those portions of the SE¼SE¼NE¼ and SE¼NW¼NW¼ lying northerly of Chocolate Mountains Aerial Gunnery Range;

Sec. 34, that portion lying northerly and easterly of Chocolate Mountains Aerial Gunnery Range;

Sec. 35, NE¼, N½SE¼, N½SE¼SE¼, SE¼SE¼SE¼, SW¼, N½NW¼, and W½SW¼NW¼.

T. 7 S., R. 16 E.,

Secs. 30 thru 32, that portion lying southerly, easterly, and westerly of BLM Chuckwalla Mountains Wilderness Area;

Sec. 33, that portion lying southerly of BLM Chuckwalla Mountains Wilderness Area;

Sec. 34, that portion lying southerly and westerly of BLM Chuckwalla Mountains Wilderness Area.

T. 7 S., R. 17 E.,

Sec. 1;

Secs. 2 and 3, those portions lying southerly and easterly of BLM Chuckwalla Mountains Wilderness Area;

Secs. 8 thru 10, those portions lying southerly and easterly of BLM Chuckwalla Mountains Wilderness Area;

Secs. 11 thru 15;

Secs. 17 and 18, those portions lying southerly and easterly of BLM Chuckwalla Mountains Wilderness Area;

Sec. 19, that portion lying northerly, southerly, easterly, and westerly of BLM Chuckwalla Mountains Wilderness Area;

Secs. 20 thru 29;

Sec. 30, that portion lying northerly, easterly, and westerly of BLM Chuckwalla Mountains Wilderness Area;

Secs. 34 and 35.

T. 7 S., R. 18 E.,

Sec. 1, S½SE¼ and S½SW¼;

Secs. 2 thru 11;

Sec. 12, S½;

Secs. 13 and 14;

Sec. 15, S½SE¼ and S½SW¼;

Secs. 17 thru 35.

T. 7 S., R. 19 E.,

Sec. 1, W½;

Sec. 2, S½, lot 1 and lot 2 in the NW¼, lot 1 and the W½ of lot 2 in the NE¼,

Secs. 3, 4, 6, 7, and 8;

Sec. 9, E½, E½SW¼, and SW¼SW¼;

Secs. 10 thru 15;

Sec. 17, NE¼ and SW¼;

Secs. 18 thru 25;

Secs. 26 and 27, those portions lying northerly and easterly of BLM Little Chuckwalla Mountains Wilderness Area;

Sec. 29, that portion lying northerly and westerly of BLM Little Chuckwalla Mountains Wilderness Area;

Sec. 30;

Sec. 31, that portion lying northerly and westerly of BLM Little Chuckwalla Mountains Wilderness Area;

Sec. 35, that portion lying northerly and easterly of BLM Little Chuckwalla Mountains Wilderness Area.

T. 7 S., R. 20 E.,

Sec. 4, that portion lying easterly of Mule McCoy Linkage ACEC 79;

Sec. 5, SE¼, NW¼SW¼, W½ lot 1 in the NW¼ and W½ lot 2 in the NW¼;

Sec. 6, S½, lots 1 and 2 in the NW¼ and the E½ lots 1 and 2 in the NE¼;

Secs. 7 and 8;

Sec. 9, that portion lying easterly of Mule McCoy Linkage ACEC 79;

Sec. 18, lots 1 and 2 in the SW¼, S½ lot 1 and lot 2 in the NW¼;

Sec. 19;

Sec. 20, E½NE¼, S½, and NW¼;

Sec. 21, SW¼ and that portion of the N½ lying southerly and westerly of Mule McCoy Linkage ACEC 79;

Sec. 22, that portion lying southerly and westerly of Mule McCoy Linkage ACEC 79;

Sec. 27, that portion lying westerly of Mule McCoy Linkage ACEC 79;

Sec. 28, SE¼;

Secs. 29 thru 33;

Sec. 34, that portion lying westerly of Mule McCoy Linkage ACEC 79;

T. 7 S., R. 21 E.,

Secs. 19 thru 21; those portions lying southerly, easterly and westerly of Development Focus Area (DFA) 1;

Secs. 27 snf 28; those portions lying southerly westerly of DFA 1;

Sec. 29;

Sec. 30, that portion lying easterly of DFA 1;

Secs. 31 thru 33;

Sec. 34, S½SW¼ and that portion lying southeasterly of DFA 1.

T. 8 S., R. 11 E.,

Sec. 2, un-numbered lot NE¼, un-numbered lot NW¼, SE¼, NE¼SW¼, SE¼SW¼, and SW¼SW¼;

Sec. 3, un-numbered lot NW¼, and SW¼;

Sec. 4, un-numbered lot NE¼, un-numbered lot NW¼, NE¼SE¼, E½NW¼SE¼, SW¼;

Sec. 9, SE¼NE¼, SW¼NE¼, NW¼NE¼, SE¼, SW¼, NE¼NW¼, SE¼NW¼, SW¼NW¼, NE¼NW¼NW¼, SE¼NW¼NW¼, and SW¼NW¼NW¼;

Sec. 10, W½;

Sec. 11, NE¼;

Sec. 12, E½;

Sec. 13, E½;

Sec. 14;

Sec. 15, NE¼;

Sec. 21, NE¼, E½NE¼SE¼, and E½SE¼SE¼;

Sec. 22;

Sec. 23, N½;

Sec. 24, E½;

Sec. 25, N½;

Sec. 26, SW¼NE¼, SE¼, SW¼, and NW¼;

Sec. 28, SE¼, SW¼, and NW¼.

T. 8 S., R. 12 E.,

Sec. 18;

Sec. 19, SE¼;

Sec. 30, lot 1 in the SW¼, lot 2 in the SW¼, and SE¼.

T. 8 S., R. 15 E.,

Sec. 1, lot 2, NE¼NE¼SE¼, SW¼NE¼SE¼, NW¼NE¼SE¼, SW¼SE¼SE¼, SW¼SE¼, NE¼NW¼SE¼, SE¼NW¼SE¼, SW¼NW¼SE¼, NE¼NE¼SW¼, SW¼NE¼SW¼, SE¼SE¼SW¼, SW¼SE¼SW¼, SW¼SW¼SW¼, and NW¼SW¼.

T. 8 S., R. 16 E.,

Sec. 2, that portion lying southwesterly of the boundary of the BLM Chuckwalla Mountains Wilderness Area;

Sec. 3, that portion lying southwesterly of the boundary of the BLM Chuckwalla Mountains Wilderness Area;

Secs. 4 thru 6;

Sec. 8, that portion lying northerly of the boundary of the Chuckwalla Special Recreation Management (SRA) Area;

Secs. 9 and 10;

Sec. 11, that portion lying southwesterly of the boundary of the BLM Chuckwalla Mountains Wilderness Area;

Sec. 12, that portion lying southerly of the boundary of the BLM Chuckwalla Mountains Wilderness Area;

Sec. 13;

Sec. 14, NE¼, SE¼, NE¼SW¼, SE¼SW¼, NW¼SW¼, and NW¼;

Sec. 23, NE¼NE¼SE¼, that portion lying in the westerly half of the remaining westerly half of the NE¼SE¼, NE¼NE¼NE¼NW¼, NE¼SE¼NE¼NW¼, SE¼SE¼NE¼NW¼, NW¼SE¼NE¼NW¼, Lot 1, Lot 4, Lot 13, Lot 15, Lot 18, and Lot 19;

Sec. 24, NE¼, SE¼, NE¼SW¼, SE¼SW¼, NW¼SW¼, and NW¼.

T. 8 S., R. 17 E.,

Secs. 1 thru 4, secs. 8 thru 15, and secs. 17 thru 28;

Sec. 29, NE¼SW¼SW¼, and SE¼NW¼SW¼;

Sec. 30;

Sec. 31, NE¼NE¼SE¼, SE¼NE¼SE¼, SW¼NE¼SE¼, E½NW¼NE¼SE¼, Lot 11, that portion lying southerly of an arbitrary east-west line that divides the lot in half, and Lot 18, that portion lying northeasterly of the boundary of the Chuckwalla ACEC;

Sec. 32, NE¼, SE¼, and NW¼;

Sec. 34;

Sec. 35.

T. 8 S., R. 18 E.,

Sec. 1, that portion lying southwesterly of the boundary of the BLM Little Chuckwalla Mountains Wilderness Area;

Secs. 2 thru 9;

Sec. 10, that portion lying northwesterly of the boundary of the BLM Little Chuckwalla Mountains Wilderness Area;

Sec. 11, that portion lying northerly of the boundary of the Bureau of Land Management Little Chuckwalla Mountains Wilderness Area;

Sec. 12, that portion lying northerly of the boundary of the Bureau of Land Management Little Chuckwalla Mountains Wilderness Area;

Sec. 15, that portion lying northwesterly of the boundary of the BLM Little Chuckwalla Mountains Wilderness Area;

Secs. 17 and 18;

Sec. 19, that portion lying northwesterly of the boundary of the BLM Little Chuckwalla Mountains Wilderness Area;

Sec. 20, that portion lying northwesterly of the boundary of the BLM Little Chuckwalla Mountains Wilderness Area;

Sec. 25, that portion lying southwesterly of the boundary of the BLM Little Chuckwalla Mountains Wilderness Area;

Sec. 26, that portion lying southerly of the boundary of the BLM Little Chuckwalla Mountains Wilderness Area;

Sec. 27, that portion lying southeasterly of the boundary of the BLM Little Chuckwalla Mountains Wilderness Area;

Sec. 30, that portion lying northwesterly of the boundary of the BLM Little Chuckwalla Mountains Wilderness Area;

Sec. 31, that portion lying westerly of the boundary of the BLM Little Chuckwalla Mountains Wilderness Area;

Sec. 34, that portion lying northeasterly of the boundary of the BLM Little Chuckwalla Mountains Wilderness Area;

Sec. 35, that portion lying northeasterly of the boundary of the BLM Little Chuckwalla Mountains Wilderness Area;

Sec. 36.

T. 8 S., R. 19 E.,

Sec. 1;

Sec. 2, that portion lying northeasterly of the boundary of the BLM Little Chuckwalla Mountains Wilderness Area;

Sec. 3, that portion lying northeasterly of the boundary of the BLM Little Chuckwalla Mountains Wilderness Area;

Sec. 6, that portion lying westerly of the boundary of the BLM Little Chuckwalla Mountains Wilderness Area;

Sec. 11, that portion lying easterly of the boundary of the BLM Little Chuckwalla Mountains Wilderness Area;

Secs. 12 and 13;

Sec. 14, that portion lying easterly of the boundary of the BLM Little Chuckwalla Mountains Wilderness Area;

Sec. 22, that portion lying southeasterly of the boundary of the BLM Little Chuckwalla Mountains Wilderness Area;

Sec. 23, that portion lying southeasterly of the boundary of the BLM Little Chuckwalla Mountains Wilderness Area;

Secs. 24 thru 26;

Sec. 27, that portion lying southeasterly of the boundary of the BLM Little Chuckwalla Mountains Wilderness Area;

Sec. 28, that portion lying southeasterly of the boundary of the BLM Little Chuckwalla Mountains Wilderness Area;

Sec. 29, that portion lying southeasterly of the boundary of the BLM Little Chuckwalla Mountains Wilderness Area;

Sec. 30, that portion lying southwesterly of the boundary of the BLM Little Chuckwalla Mountains Wilderness Area;

Sec. 31, that portion lying southerly of the boundary of the Bureau of Land Management Little Chuckwalla Mountains Wilderness Area;

Sec. 32, that portion lying southeasterly of the boundary of the BLM Little Chuckwalla Mountains Wilderness Area;

Secs. 33 thru 35.

T. 8 S., R. 20 E.,

Secs. 1 thru 31;

Sec. 32, that portion lying northwesterly of the boundary of the BLM Palo Verde Mountains Wilderness Area;

Sec. 33, that portion lying northerly of the boundary of the BLM Palo Verde Mountains Wilderness Area;

Sec. 34, that portion lying northeasterly of the boundary of the BLM Palo Verde Mountains Wilderness Area;

Sec. 35.

T. 8 S., R. 21 E.,

Sec. 2, SW¼, Lot 4, and Lot 5;

Sec. 3, lot 1, SE¼, NE¼SW¼, SE¼SW¼, NW¼SW¼, and NW¼ (unsurveyed);

Sec. 4, NE¼, N½SE¼, SW¼ and NW¼ (unsurveyed);

Secs. 5 thru 8;

Sec. 9, SE¼, SW¼, and NW¼ (unsurveyed);

Sec. 10, NE¼, SE¼, SW¼, NE¼NW¼, and SE¼NW¼;

Sec. 11, NE¼SW¼, NW¼SW¼, and NW¼;

Sec. 14, NE¼SW¼, SE¼SW¼, SW¼SW¼, and NW¼;

Sec. 15, NE¼, SE¼, SE¼SW¼, SW¼SW¼, NE¼NW¼, and NW¼NW¼;

Secs. 17 thru 19;

Sec. 29, S½;

Secs. 30 thru 32.

T. 8 ½ S., R. 21 E.,

Sec. 31.

T. 9 S., R. 16 E.,

Sec. 1, that portion lying southeasterly of the boundary of the Chocolate Mountains Aerial Gunnery Range;

Sec. 11, that portion lying southerly of the boundary of the Chocolate Mountains Aerial Gunnery Range;

Sec. 12, NE¼, SE¼, and SW¼.

T. 9 S., R. 17 E.,

Sec. 1, NW¼ of lot 2 in the NW¼NE¼ that portion lying northerly of Graham Pass Road, NE¼SW¼SE¼, NW¼SE¼ that portion lying southerly of Bradshaw Trail, NW¼SW¼ that portion lying southerly of Bradshaw Trail, and E½ lot 2 in the NW¼ that portion lying northerly of Graham Pass Road;

Sec. 2, lot 2 in the NE¼ that portion lying northerly of Graham Pass Road, SE¼ that portion lying southerly of Bradshaw Trail, SW¼ that portion lying southwesterly of Bradshaw Trail, Lot 1 in the NW¼ that portion lying northwesterly of Graham Pass Road and lying southwesterly of Bradshaw Trail, and Lot 2 in the NW¼ that portion lying northwesterly of Graham Pass Road;

Sec. 3, SE¼, SW¼, and S½ Lot 1 in the NW¼;

Sec. 4;

Sec. 5, NE¼SE¼, NW¼SE¼, SW¼SW¼, and NW¼SW¼;

Sec. 6, lot 1 in the NE¼, lot 2 in the NE¼, SE¼, lot 1 in the SW¼, and lot 2 in the SW¼;

Sec. 7, SE¼NE¼, SW¼NE¼, SE¼SE¼, SW¼SE¼, N½ Lot 1 in the SW¼, N½ Lot 2 in the SW¼, N½ Lot 1 in the NW¼, and N½ Lot 2 in the NW¼;

Sec. 8;

Sec. 9, SE¼NE¼, SW¼NE¼, NE¼SE¼, SE¼SE¼, SW¼SE¼, and SW¼;

Secs. 10 thru 12;

Sec. 13, NE¼, SE¼SW¼, and SW¼SW¼;

Sec. 14;

Sec. 15, SE¼NW¼;

Sec. 16;

Sec. 17, NE¼SE¼, NW¼SE¼, SW¼, SE¼NW¼, and SW¼NW¼;

Sec. 18;

Sec. 19, N½ lot 1 in the NW¼;

Sec. 20, NE¼, SE¼, NE¼SW¼, NE¼SE¼SW¼, N½NW¼SW¼, and NW¼;

Secs. 21, 22, and 24;

Sec. 25, NE¼NE¼, E½SW¼NE¼, NW¼NE¼, NE¼NW¼, and SE¼NW¼;

Sec. 28, NW¼NE¼, and NW¼.

T. 9 S., R. 18 E.,

Sec. 2;

Sec. 3, NE¼ lot 14 that portion lying southeasterly of the boundary of the BLM Little Chuckwalla Mountains Wilderness Area;

Sec. 4, lot 11 that portion lying southeasterly of the boundary of the BLM Little Chuckwalla Mountains Wilderness Area, SE¼ that portion lying southeasterly of the boundary of the BLM Little Chuckwalla Mountains Wilderness Area, and SW¼ that portion lying southerly of the boundary of the BLM Little Chuckwalla Mountains Wilderness Area;

Sec. 5, NW¼SW¼SE¼ that portion lying southerly of the boundary of the BLM Little Chuckwalla Mountains Wilderness Area;

Sec. 6, SE¼ that portion lying southerly of the boundary of the BLM Little Chuckwalla Mountains Wilderness Area, lot 18 that portion lying southerly of the boundary of the BLM Little Chuckwalla Mountains Wilderness Area, Lot 19 that portion lying southwesterly of the boundary of the BLM Little Chuckwalla Mountains Wilderness Area, lot 20 that portion lying southwesterly of the boundary of the BLM Little Chuckwalla Mountains Wilderness Area, Lot 21 that portion lying southerly of the boundary of the BLM Little Chuckwalla Mountains Wilderness Area, lot 22, and lot 23;

Sec. 7, NE¼NW¼ lot 5;

Secs. 8, 10, 12, and 14;

Sec. 15, NW¼SE¼SW¼NE¼;

Secs. 16 and 18;

Sec. 19, S½NW¼NE¼, SW¼NE¼SE¼, lot 5, lot 6, lot 11, and lot 12;

Sec. 20;

Sec. 21, SW¼NE¼SE¼, SW¼NW¼SE¼, NE¼SW¼, NW¼SE¼SW¼, and SE¼SW¼NW¼;

Secs. 22, 24, 26, 28, 30, 32, and 34.

T. 9 S., R. 19 E.,

Secs. 1, 2, 4, 6, 8, secs. 10 thru 12, secs. 14 and 18, and secs. 20 thru 22;

Sec. 24, that portion lying westerly of the boundary of the BLM Palo Verde Mountains Wilderness Area;

Secs. 26, 28, and 30;

Sec. 31, NE¼ and NW¼SE¼;

Secs. 32 and 34.

T. 9 S., R. 20 E.,

Sec. 1;

Sec. 2, that portion lying northeasterly of the boundary of the BLM Palo Verde Mountains Wilderness Area;

Sec. 3, that portion lying northeasterly of the boundary of the BLM Palo Verde Mountains Wilderness Area;

Sec. 4, that portion lying northeasterly of the boundary of the BLM Palo Verde Mountains Wilderness Area;

Sec. 6, that portion lying westerly of the boundary of the BLM Palo Verde Mountains Wilderness Area;

Sec. 7, that portion lying westerly of the boundary of the BLM Palo Verde Mountains Wilderness Area;

Sec. 11, that portion lying northeasterly of the boundary of the BLM Palo Verde Mountains Wilderness Area;

Sec. 12, that portion lying northeasterly of the boundary of the BLM Palo Verde Mountains Wilderness Area;

Sec. 13, that portion lying northeasterly of the boundary of the BLM Palo Verde Mountains Wilderness Area;

Sec. 18, that portion lying northwesterly of the boundary of the BLM Palo Verde Mountains Wilderness Area;

Sec. 30, that portion lying southwesterly of the boundary of the BLM Palo Verde Mountains Wilderness Area;

Sec. 31, that portion lying westerly of the boundary of the BLM Palo Verde Mountains Wilderness Area.

T. 9 S., R. 21 E.,

Secs. 5 thru 8, secs. 17 and 18;

Sec. 19, NE¼ that portion lying easterly of the boundary of the BLM Palo Verde Mountains Wilderness Area;

Sec. 20, that portion lying northeasterly of the boundary of the BLM Palo Verde Mountains Wilderness Area;

Sec. 28, that portion lying northerly of the boundary of the BLM Palo Verde Mountains Wilderness Area;

Sec. 29, excluding that portion of the BLM Palo Verde Mountains Wilderness Area;

Sec. 32, excluding that portion of the BLM Palo Verde Mountains Wilderness Area.

T. 10 S., R. 18 E.,

Secs. 2 and 4;

Sec. 5, S½ lot 9, and S½ lot 10;

Secs. 10, 12, 14, and 24.

T. 10 S., R. 19 E.,

Secs. 2, 4, and 6;

Sec. 7, NE¼SE¼, and SE¼SE¼;

Secs. 8, 10, 12, 14, 18, 20, 22, 24, 26, and 28;

Sec. 29, SE¼, SW¼, and NW¼;

Secs. 30 and 34.

T. 10 S., R. 20 E.,

Secs. 3 and 5;

Sec. 6, that portion lying southwesterly of the boundary of the BLM Palo Verde Mountains Wilderness Area;

Secs. 7 thru 11, secs. 13 thru 15, and secs. 17 thru 35;

Sec. 36, excluding Highway 78.

T. 10 S., R. 21 E.,

Sec. 5, excluding that portion of the BLM Palo Verde Mountains Wilderness Area;

Sec. 7, NE¼, SE¼, lot 1, and lot 2;

Sec. 8, that portion lying westerly of the boundary of the BLM Palo Verde Mountains Wilderness Area;

Sec. 16, NE¼NW¼, and NW¼NW¼;

Secs. 17 thru 20;

Sec. 21, excluding Railroad Grant 900667;

Sec. 27;

Sec. 28, excluding Highway 78;

Sec. 29, excluding Railroad Grant 900667;

Sec. 30;

Sec. 31, excluding Railroad Grant 900667;

Secs. 32 and 34.

T. 10 ½ S., R. 21 E.,

Secs. 31 thru 36.

T. 11 S., R. 19 E.,

Secs. 2, 12, and 24.

T. 11 S., R. 20 E.,

Sec. 1, excluding Railroad Grant 952956;

Secs. 2 thru 10;

Sec. 11, excluding Railroad Grant 790933;

Secs. 12 thru 14;

Sec. 15, NE¼ excluding Highway 78, SE¼ excluding Highway 78, SW¼ excluding Highway 78, NE¼NW¼, SE¼NW¼, and NW¼NW¼;

Secs. 17 thru 24;

Sec. 25, N½;

Sec. 26;

Sec. 27, excluding Highway 78;

Secs. 28 thru 32;

Sec. 33, excluding Highway 78;

Secs. 34 and 35.

T. 11 S., R. 21 E.,

Secs. 2 thru 15, secs. 17 and 18;

Sec. 19, NE¼, lot 1, and lot 6;

Secs. 20 thru 30, and secs. 32 thru 36.

T. 12 S., R. 19 E.,

Sec. 1, lots 1 thru 12;

Sec. 12;

Sec. 13, S½;

Sec. 14;

Secs. 23 thru 26, and sec. 35.

T. 12 S., R. 20 E.,

Secs. 1 thru 8;

Sec. 9, excluding a portion of Railroad Grant 92;

Secs. 10 thru 12;

Sec. 13, N½;

Sec. 15;

Sec. 17, excluding a portion of Railroad Grant 92;

Secs. 18 thru 21;

Sec. 22, that portion lying northwesterly of the boundary of the BLM Indian Pass Wilderness Area;

Sec. 23, that portion lying northwesterly of the boundary of the BLM Indian Pass Wilderness Area;

Sec. 27, that portion lying westerly of the boundary of the BLM Indian Pass Wilderness Area;

Secs. 28 thru 33;

Sec. 34, that portion lying southwesterly of the boundary of the BLM Indian Pass Wilderness Area;

Sec. 35, that portion lying southwesterly of the boundary of the BLM Indian Pass Wilderness Area.

T. 12 S., R. 21 E.,

Secs. 1 thru 11;

Sec. 15, N½;

Sec. 17, N½.

T. 13 S., R. 18 E.,

Sec. 23, SE¼SE¼ that portion lying southerly of Highway 78 and easterly of that undefined diagonal line;

Sec. 24, that portion lying southerly of Highway 78;

Sec. 25, that portion lying northeasterly of that undefined diagonal line;

Sec. 26, that portion lying northeasterly of that undefined diagonal line.

T. 13 S., R. 19 E.,

Sec. 1;

Sec. 2, that portion lying easterly of Highway 78;

Sec. 10, that portion lying easterly of Highway 78;

Secs. 11 thru 14;

Sec. 15, that portion lying southeasterly of Highway 78;

Sec. 19, that portion lying southerly of Highway 78;

Sec. 20, that portion lying southerly of Highway 78;

Sec. 21, that portion lying southeasterly of Highway 78;

Sec. 22, that portion lying southeasterly of Highway 78;

Secs. 23 thru 32;

Sec. 33, excluding a portion of Mineral Survey No. 6921, approved January 29, 1987;

Secs. 34 and 35.

T. 13 S., R. 20 E.,

Sec. 1, that portion lying southwesterly of the boundary of the BLM Indian Pass Wilderness Area;

Sec. 2, that portion lying southwesterly of the boundary of the BLM Indian Pass Wilderness Area;

Secs. 3 thru 11;

Sec. 12, that portion lying westerly of the boundary of the BLM Indian Pass Wilderness Area;

Sec. 13, that portion lying westerly of the boundary of the BLM Indian Pass Wilderness Area;

Secs. 14 and 15;

Sec. 16, N½;

Secs. 17 thru 23;

Sec. 24, that portion lying westerly of the boundary of the BLM Indian Pass Wilderness Area;

Secs. 25 thru 35.

T. 13 S., R. 21 E.,

Sec. 13, that portion lying southerly of a line extended from a point on the boundary of the BLM Indian Pass Wilderness Area to its intersection on the line of the BLM Picacho Peak Wilderness Area, and lying northwesterly of the boundary of the BLM Picacho Peak Wilderness Area;

Sec. 14, that portion lying southerly of the boundary of the BLM Indian Pass Wilderness Area, lying southerly of a line extended from a point on the boundary of the BLM Indian Pass Wilderness Area to its intersection on the line of the BLM Picacho Peak Wilderness Area, and lying northerly of the boundary of the BLM Picacho Peak Wilderness Area;

Sec. 15, that portion lying southerly of the boundary of the BLM Indian Pass Wilderness Area;

Sec. 16, that portion lying southeasterly of the boundary of the BLM Indian Pass Wilderness Area;

Sec. 21, that portion lying easterly of the boundary of the BLM Indian Pass Wilderness Area, lying easterly of a line extended from a point on the boundary of the BLM Indian Pass Wilderness Area to its intersection on the line of the BLM Picacho Peak Wilderness Area, and lying northerly of the boundary of the BLM Picacho Peak Wilderness Area;

Sec. 22, that portion lying northerly of the boundary of the BLM Picacho Peak Wilderness Area;

Sec. 23, that portion lying northwesterly of the boundary of the BLM Picacho Peak Wilderness Area;

Sec. 25, that portion lying southeasterly of the boundary of the BLM Picacho Peak Wilderness Area;

Sec. 28, that portion lying westerly of the boundary of the BLM Picacho Peak Wilderness Area;

Sec. 29, that portion lying northwesterly of the boundary of the BLM Picacho Peak Wilderness Area;

Secs. 30 thru 33;

Sec. 34, that portion lying southwesterly of the boundary of the BLM Picacho Peak Wilderness Area;

Sec. 35, that portion lying westerly of the boundary of the BLM Picacho Peak Wilderness Area;

Sec. 36, that portion lying southeasterly of the boundary of the BLM Picacho Peak Wilderness Area.

T. 13 S., R. 22 E.,

Secs. 26 thru 28;

Sec. 29, that portion lying southeasterly of the boundary of the BLM Picacho Peak Wilderness Area;

Sec. 30, that portion lying southeasterly of the boundary of the BLM Picacho Peak Wilderness Area;

Sec. 31, that portion lying southeasterly of the boundary of the BLM Picacho Peak Wilderness Area;

Secs. 32 thru 35.

T. 13½ S., R. 22 E.,

Secs. 31 thru 35;

Sec. 36, that portion lying westerly of the boundary of the BLM Little Picacho Wilderness Area.

T. 14 S., R. 18 E.,

Sec. 1, that portion lying easterly of that undefined line and lying northeasterly of that undefined diagonal line.

T. 14 S., R. 19 E.,

Secs. 1 thru 3;

Sec. 4, excluding a portion of Mineral Survey No. 6921, approved January 29, 1987;

Sec. 5;

Sec. 6, that portion lying easterly of that undefined line and lying northeasterly of that undefined diagonal line;

Sec. 7, that portion lying northeasterly of that undefined diagonal line;

Sec. 8, that portion lying northeasterly of that undefined diagonal line;

Secs. 9 thru 15;

Sec. 17, that portion lying northeasterly of that undefined diagonal line;

Sec. 21, that portion lying northeasterly of that undefined diagonal line;

Sec. 22, that portion lying northeasterly of that undefined diagonal line;

Secs. 23 thru 25;

Sec. 26, that portion lying northeasterly of that undefined diagonal line;

Sec. 27, that portion lying northeasterly of that undefined diagonal line;

Sec. 35, that portion lying northeasterly of that undefined diagonal line.

T. 14 S., R. 20 E.,

Secs. 1 thru 15;

Secs. 17 thru 30;

Sec. 31, that portion lying northeasterly of that undefined diagonal line;

Secs. 32 thru 35.

T. 14 S., R. 21 E.,

Sec. 1;

Sec. 2, that portion lying southeasterly of the boundary of the BLM Picacho Peak Wilderness Area;

Sec. 3, that portion lying southwesterly of the boundary of the BLM Picacho Peak Wilderness Area;

Secs. 4 thru 15;

Secs. 17 thru 35.

T. 14 S., R. 22 E.,

Sec. 1, that portion lying westerly of the boundary of the BLM Little Picacho Wilderness Area;

Sec. 2, excluding a portion of Mineral Survey No. 3954A, approved March 3, 1904, and Mineral Survey No. 6155 approved September 21, 1935;

Sec. 3, excluding a portion of Mineral Survey No. 3954A, approved March 3, 1904;

Sec. 4, excluding a portion of Mineral Survey No. 3954A, approved March 3, 1904;

Secs. 5 thru 8;

Sec. 9, excluding a portion of Mineral Survey No. 3954A, approved March 3, 1904;

Sec. 10, excluding a portion of Mineral Survey No. 3193, approved June 14, 1893, Mineral Survey No. 3194, approved June 19, 1893, Mineral Survey No. 3954A, approved March 3, 1904, and Mineral Survey No. 6157, approved September 16, 1935;

Sec. 11, that portion lying northwesterly of the boundary of the BLM Little Picacho Wilderness Area and excluding a portion of Mineral Survey No. 3192, approved June 14, 1893, Mineral Survey No. 3954A, approved March 3, 1904, Mineral Survey No. 6155, approved September 21, 1935, Mineral Survey No. 6156, approved September 16, 1935, and Mineral Survey No. 6157, approved September 16, 1935;

Sec. 12, that portion lying northwesterly of the boundary of the BLM Little Picacho Wilderness Area;

Sec. 14, that portion lying westerly of the boundary of the BLM Little Picacho Wilderness Area;

Secs. 15 thru 22;

Sec. 23, that portion lying westerly of the boundary of the BLM Little Picacho Wilderness Area;

Sec. 26, that portion lying westerly of the boundary of the BLM Little Picacho Wilderness Area;

Secs. 27 thru 34;

Sec. 35, that portion lying westerly of the boundary of the BLM Little Picacho Wilderness Area.

T. 15 S., R. 20 E.,

Secs. 1 thru 3;

Sec. 4, NE¼, N½SE¼, SW¼, and NW¼;

Sec. 5;

Sec. 6, that portion lying northeasterly of that undefined diagonal line;

Sec. 8, that portion lying northeasterly of that undefined diagonal line;

Sec. 9, S½NE¼, SE¼, N½SW¼, SE¼SW¼, SW¼SW¼ that portion lying northeasterly of that undefined diagonal line, and NW¼;

Secs. 10 thru 14;

Sec. 15, that portion lying northeasterly of that undefined diagonal line;

Sec. 22, that portion lying northeasterly of that undefined diagonal line;

Sec. 23, that portion lying northeasterly of that undefined diagonal line;

Sec. 24.

T. 15 S., R. 21 E.,

Secs. 1 thru 15;

Sec. 17, excluding a portion of Mineral Survey No. 4266, approved July 26, 1904, Mineral Survey No. 5098, approved March 19, 1919, and Mineral Survey No. 5765, approved November 15, 1924;

Sec. 20, excluding Mineral Survey No. 3147, approved October 15, 1892, Mineral Survey No. 3242, approved May 11, 1894, and a portion of Mineral Survey No. 4266, approved July 26, 1904;

Sec. 21, excluding a portion of Mineral Survey No. 4266, approved July 26, 1904;

Secs. 22 thru 24, and secs. 27 thru 29;

Sec. 32, that portion lying northeasterly of Sidewinder Road;

Secs. 33 and 34;.

T. 15 S., R. 22 E.,

Sec. 2, that portion lying westerly of the boundary of the BLM Little Picacho Wilderness Area;

Secs. 3 thru 10;

Sec. 11, that portion lying southwesterly of the boundary of the BLM Little Picacho Wilderness Area;

Secs. 14 and 15, and secs. 17 thru 23.

The Chuckwalla Bench and Dos Palmas area of the California Desert National Conservation Lands described aggregates 589,662 acres in Imperial and Riverside Counties.

Eastern Slope-West Desert Area

Mount Diablo Meridian

T. 18 S., R. 40 E.,

Sec. 5, that portion lying northwesterly of Saine Valley Road;

Sec. 6, that portion lying northeasterly of BLM Malpais Mesa Wilderness Area;

Sec. 18, that portion lying northwesterly of Saine Valley Road.

T. 17 S., R. 40 E.,

Sec. 5, that portion lying southwesterly of Death Valley National Park;

Sec. 6;

Sec. 7, that portion lying northeasterly of BLM Malpais Mesa Wilderness Area;

Secs. 8 thru 9, those portions lying southwesterly of Death Valley National Park;

Secs. 15 thru 16, those portions lying southwesterly of Death Valley National Park;

Sec. 17, that portion lying northeasterly of BLM Malpais Mesa Wilderness Area;

Sec. 20, that portion lying easterly of BLM Malpais Mesa Wilderness Area;

Sec. 21;

Sec. 22, that portion lying southwesterly of Death Valley National Park and westerly of Saine Valley Road;

Sec. 27, that portion lying northwesterly of Death Valley National Park;

Sec. 28, that portion lying northwesterly of Death Valley National Park and northwesterly of Saine Valley Road;

Sec. 29;

Secs. 30 thru 31, those portions lying northeasterly of BLM Malpais Mesa Wilderness Area;

Secs. 32 and 33, those portions lying northwesterly of Saine Valley Road.

T. 16 S., R. 40 E.,

Sec. 31, that portion lying southwesterly of Death Valley National Park.

T. 19 S., R. 39 E.,

Sec. 4;

Sec. 5, that portion lying northeasterly of BLM Coso Range Wilderness Area;

Sec. 9, that portion lying northeasterly of BLM Coso Range Wilderness Area.

T. 18 S., R. 39 E.,

Sec. 13, that portion lying northwesterly of Saine Valley Road;

Sec. 14;

Sec. 15, that portion lying easterly of BLM Malpais Mesa Wilderness Area;

Sec. 19, and secs. 21 thru 23;

Secs. 24 thru 26, those portions lying northwesterly of Saine Valley Road;

Secs. 28 thru 30;

Sec. 31, that portion lying northerly of BLM Coso Range Wilderness Area;

Sec. 32, that portion lying northeasterly of BLM Coso Range Wilderness Area;

Secs. 33 and 34;

Sec. 35, that portion lying northerly of California State Highway 190 and westerly of Saine Valley Road.

T. 17 S., R. 39 E.,

Secs. 1 thru 8;

Secs. 9 thru 12, that portion lying northerly of BLM Malpais Mesa Wilderness Area;

Secs. 16 thru 18, those portions lying northerly of BLM Malpais Mesa Wilderness Area;

Sec. 25, that portion lying northeasterly of BLM Malpais Mesa Wilderness Area.

T. 16 S., R. 39 E.,

Sec. 4, that portion lying southwesterly of Death Valley National Park;

Sec. 5, that portion lying southeasterly of BLM Inyo Mountains Wilderness Area;

Sec. 6, that portion lying southerly of Inyo Mountains Wilderness and excluding Mineral Survey No. 6720, approved October 13, 1964;

Sec. 7, excluding Mineral Survey No. 6720, approved October 13, 1964;

Sec. 8;

Secs. 9 and 10, those portions lying southwesterly of Death Valley National Park;

Secs. 14 and 15, those portions lying southwesterly of Death Valley National Park;

Sec. 16;

Sec. 17, excluding Mineral Survey No. 5395, approved September 5, 1918;

Secs. 18 and 19, excluding Mineral Survey No. 5395, approved September 5, 1918;

Sec. 20, excluding Mineral Survey No. 5395, approved September 5, 1918;

Secs. 21 thru 22;

Sec. 23, that portion lying southwesterly of Death Valley National Park;

Secs. 25 thru 26, those portions lying southwesterly of Death Valley National Park;

Secs. 27 thru 35;

Sec. 36, that portion lying southwesterly of Death Valley National Park.

T. 15 S., R. 39 E.,

Sec. 32, that portion lying southeasterly of BLM Inyo Mountains Wilderness Area;

Sec. 33, that portion lying southwesterly of Death Valley National Park.

T. 29 S., R. 38 E.,

Secs. 1 thru 3.

T. 28 S., R. 38 E.,

Sec. 4, that portion lying northwesterly of BLM El Paso Mountains Wilderness Area;

Secs. 5 thru 7;

Sec. 8, that portion lying northwesterly of BLM El Paso Mountains Wilderness Area;

Secs. 17 thru 19, those portions lying northwesterly of BLM El Paso Mountains Wilderness Area;

Secs. 29 thru 30, those portions lying southwesterly of BLM El Paso Mountains Wilderness Area;

Sec. 31;

Sec. 32, that portion lying southwesterly of BLM El Paso Mountains Wilderness Area;

Secs. 33 thru 35, those portions lying southerly of BLM El Paso Mountains Wilderness Area.

T. 27 S., R. 38 E.,

Sec. 6, that portion lying southwesterly of California State Highway 178;

Sec. 7, those portions of the N½ lying southerly of California State Highway 178, SW¼SE¼, the S½ of lot 1 and lot 2 in the SW¼;

Sec. 8, S½SE¼, N½SW¼, SE¼SW¼, and that portion of the NW¼ lying southerly of California State Highway 178;

Sec. 9, that portion lying southwesterly of Mojave Ground Squirrel ACEC 123;

Sec. 15, that portion lying southwesterly of Mojave Ground Squirrel ACEC 123;

Sec. 17, E½, SW¼, E½NW¼, and SW¼NW¼;

Secs. 18 thru 22;

Sec. 23, the S½;

Sec. 24, that portion of the S½ lying southwesterly of El Paso/Rand SRMA 18;

Sec. 25, that portion lying northwesterly of BLM El Paso Mountains Wilderness Area;

Sec. 26, that portion lying northeasterly and northwesterly of BLM El Paso Mountains Wilderness Area;

Secs. 27 thru 28, those portions lying northwesterly of BLM El Paso Mountains Wilderness Area;

Sec. 29;

Sec. 30, lots 1 and 2 in NW¼, the N½ of lot 1 and lot 2 in SW¼, and E½;

Sec. 31, lots 1and 2 in SW¼, and N½ of lot 2 in NW¼, and E½;

Sec. 32;

Sec. 33, that portion lying westerly of El Paso Mountains Wilderness Area.

T. 26 S., R. 38 E.,

Sec. 3, that portion lying westerly of Mojave Ground Squirrel ACEC 123;

Sec. 4;

Sec. 5, that portion lying easterly of BLM Owens Peak Wilderness Area;

Sec. 6, that portion lying southwesterly of BLM Owens Peak Wilderness Area;

Secs. 7 thru 8, those portions lying northerly and southerly of Owens Peak Wilderness;

Sec. 9;

Sec. 10, that portion lying westerly of Mojave Ground Squirrel ACEC 123;

Sec. 15, that portion of N½ lying westerly of Mojave Ground Squirrel ACEC 123 and that portion of S½ lying westerly of East Sierra SRMA 1;

Sec. 16, NE¼, NW¼SE¼, and NW¼;

Sec. 17, that portion lying northeasterly of BLM Owens Peak Wilderness Area;

Sec. 21, that portion lying northeasterly of BLM Owens Peak Wilderness Area;

Sec. 22, that portion lying westerly of Mojave Ground Squirrel ACEC 123.

T. 25 S., R. 38 E.,

Sec. 4, that portion lying westerly of East Sierra SRMA 1;

Sec. 5, that portion lying easterly of BLM Owens Peak Wilderness Area;

Sec. 7, that portion lying easterly of BLM Owens Peak Wilderness Area;

Sec. 8, NE¼, SE¼, and those portions of the SE¼SW¼, NE¼SW¼, SE¼NW¼ and NE¼NW¼ lying easterly of BLM Owens Peak Wilderness Area;

Sec. 9, that portion lying westerly of East Sierra SRMA 1;

Sec. 16, SW¼NE¼, E½SE¼, and SE¼SW¼;

Sec. 17, that portion lying easterly of BLM Owens Peak Wilderness Area;

Sec. 20, that portion lying easterly of BLM Owens Peak Wilderness Area;

Sec. 21;

Sec. 22, that portion of W½SW¼ lying westerly of East Sierra SRMA 1;

Sec. 27, SW¼SW¼;

Sec. 28;

Sec. 29, those portions of NE¼, SE¼, and SE¼NW¼ lying easterly of Owens Peak Wilderness Area;

Sec. 30, that portion of the W½ NW¼ lying southerly of BLM Owens Peak Wilderness Area;

Sec. 32, that portion lying easterly of BLM Owens Peak Wilderness Area;

Sec. 33;

Sec. 34, that portion lying westerly of East Sierra SRMA 1.

T. 24 S., R. 38 E.,

Sec. 5, that portion lying westerly of East Sierra SRMA 1;

Secs. 6 thru 7, those portions lying easterly of BLM Sacatar Trail Wilderness Area;

Sec. 8, that portion lying westerly of East Sierra SRMA 1;

Sec. 17, that portion lying westerly of East Sierra SRMA 1;

Sec. 18, that portion lying northeasterly of BLM Owens Peak Wilderness Area and southeasterly of BLM Sacatar Trail Wilderness Area;

Sec. 19, that portion lying northeasterly of BLM Owens Peak Wilderness Area;

Sec. 20, that portion lying westerly of East Sierra SRMA 1;

Sec. 29, SW¼, W½NW¼, and that portion of the S½ SE¼ lying westerly of East Sierra SRMA 1;

Sec. 30, that portion lying easterly of BLM Owens Peak Wilderness Area;

Sec. 31, that portion lying northeasterly of BLM Owens Peak Wilderness Area;

Secs. 32 and 33, those portions lying westerly of East Sierra SRMA 1.

T. 23 S., R. 38 E.,

Sec. 5, lot 3, NE¼, SE¼, and SE¼NW¼;

Sec. 6, lot 2, SW¼NE¼, W½SE¼, SW¼ and NW¼;

Sec. 7, W½NE¼, W½SE¼, SW¼, N½NW¼ and SE¼NW¼;

Sec. 8, NE¼, SE¼, and E½SW¼;

Sec. 17, NE¼, SE¼, E½SW¼ and E½NW¼;

Sec. 18, NW¼NE¼, W½SE¼ and that portion of W½ lying easterly of BLM Sacatar Trail Wilderness Area;

Sec. 19, those portions of W½NE¼ and SE¼ lying easterly of Bureau of Land Management Sacatar Trail Wilderness Area;

Sec. 20, NE¼ and SE¼;

Sec. 29, that portion lying westerly of East Sierra SRMA 1;

Secs. 30 thru 31, those portions lying easterly of BLM Sacatar Trail Wilderness Area;

Sec. 32, that portion lying westerly of East Sierra SRMA 1.

T. 22 S., R. 38 E.,

Sec. 19, that portion of the SW¼ lying southwesterly of a line projected from the ¼ sec. corner of secs. 19 and 24 to the ¼ sec. corner of secs. 19 and 30;

Sec. 29, the SW¼, and that portion of the NW¼ lying southwesterly of a line projected from the corner of secs. 19, 20, 29 and 30 to the center ¼ sec. corner of sec. 29;

Sec. 30, N½, NE¼SE¼, E½NE¼SE¼SE¼, SE¼SE¼SE¼, E½SW¼SE¼SE¼, N½SW¼, NE¼NE¼NE¼SE¼ SW¼, W½NE¼NE¼SE¼SW¼, N½SW¼NE¼SE¼SW¼, NW¼NE¼SE¼SW¼, W½SE¼SW¼, and SW¼SW¼;

Sec. 31, E½NE¼NE¼, NE¼SE¼NE¼, S½SE¼NE¼, that portion of S½ lying northeasterly of Mojave Ground Squirrel ACEC SW¼SE¼NW¼, SE¼NE¼NE¼SW¼NW¼, W½NE¼NE¼SW¼NW¼ SE¼NE¼SW¼NW¼, W½NE¼SW¼NW¼, SE¼SW¼NW¼,W½SW¼NW¼, SW¼SE¼NW¼NW¼, W½NW¼SE¼NW¼NW¼, and that portion of W½NW¼NW¼ lying westerly of Development Focus Area 38 (DFA 8);

Sec. 32.

T. 21 S., R. 38 E.,

Sec. 2, that portion lying southwesterly of BLM Coso Range Wilderness Area;

Secs. 3 thru 10;

Sec. 11, that portion lying southwesterly of BLM Coso Range Wilderness Area;

Sec. 14, NE¼, SW¼, and NW¼;

Sec. 15;

Secs. 17 and 18;

Sec. 19, that portion lying northeasterly of DFA 171;

Secs. 20 and 22;

Sec. 26, N½;

Secs. 27 and 28;

Secs. 29 and 30, those portions lying northeasterly of DFA 171;

Sec. 32, that portion lying northeasterly of DFA 171;

Secs. 33 and 34.

T. 20 S., R. 38 E.,

Secs. 17 and 18, that portion lying southwesterly of BLM Coso Range Wilderness Area;

Sec. 19;

Secs. 20 and 21, those portions lying southwesterly of BLM Coso Range Wilderness Area;

Sec. 28, that portion lying westerly of BLM Coso Range Wilderness Area;

Secs. 29 thru 32;

Sec. 33, that portion lying westerly of BLM Coso Range Wilderness Area.

T. 18 S., R. 38 E.,

Sec. 1, that portion lying westerly of BLM Malpais Mesa Wilderness Area;

Sec. 2;

Secs. 3 and 4, those portions lying southeasterly of California State Highway 190;

Secs. 8 and 9, those portions lying southeasterly of California State Highway 190;

Secs. 10 and 11;

Secs. 12 and 13, those portions lying southwesterly of BLM Malpais Mesa Wilderness Area;

Secs. 14 and 15;

Secs. 17 thru 19, those portions lying southeasterly of California State Highway 190;

Secs. 20 and 21, those portions lying northwesterly of BLM Coso Range Wilderness Area;

Sec. 22, that portion lying easterly of BLM Coso Range Wilderness Area;

Secs. 23 and 24;

Sec. 25, that portion lying easterly of BLM Coso Range Wilderness Area;

Secs 29 and 30, those portions lying northwesterly of BLM Coso Range Wilderness Area;

Sec. 36, that portion lying northeasterly of BLM Coso Range Wilderness Area.

T. 17 S., R. 38 E.,

Secs. 1 thru 3;

Sec. 4, that portion lying northeasterly of California State Highway 136;

Secs. 11 and 12;

Sec. 13, that portion lying northwesterly of BLM Malpais Mesa Wilderness Area;

Sec. 14, that portion lying northeasterly of California State Highway 136 and northwesterly of BLM Malpais Mesa Wilderness Area;

Sec. 23, that portion lying northeasterly of California State Highway 136 and northwesterly of BLM Malpais Mesa Wilderness Area;

Sec. 26, that portion lying southeasterly of California State Highway 190 and southwesterly of California State Highway 136;

Secs. 34 and 35, those portions lying southeasterly of California State Highway 190;

Sec. 36, that portion lying westerly of BLM Malpais Mesa Wilderness Area.

T. 16 S., R. 38 E.,

Sec. 1, those portions lying southwesterly of BLM Inyo Mountains Wilderness Area and excluding Mineral Survey No. 5857, approved May 29, 1926;

Sec. 2, those portions lying easterly of Inyo Mountain Crest Road, and excluding Mineral Survey No. 5857, approved May 29, 1926, and Mineral Survey No. 2048, approved December 30, 1882;

Sec. 3, that portion lying easterly of Inyo Mountain Crest Road;

Sec. 11, that portion lying northeasterly of Inyo Mountain Crest Road;

Sec. 12, excluding Mineral Survey No. 5396, approved October 7, 1918;

Sec. 13, those portions lying northerly of Inyo Mountain Crest Road and southerly of Cerro Gordo Road, excluding Mineral Survey No. 171, approved April12, 1873, Mineral Survey No. 987, approved September 7, 1876, Mineral Survey No. 1057, approved May 1, 1880, Mineral Survey No. 1131, approved May 1, 1880, Mineral Survey No. 1295, approved November 20, 1882, Mineral Survey No. 1587, approved October 12, 1875, Mineral Survey No. 4651, approved October 7, 1907, Mineral Survey No. 5390, approved May 21, 1918, Mineral Survey No. 5395, approved September 5, 1918, and Mineral Survey No. 5396, approved October 7, 1918;

Sec. 14, those portions lying northeasterly of Inyo Mountain Crest Road and southerly of Cerro Gordo Road, excluding Mineral Survey No. 1131, approved May 1, 1880, Mineral Survey No. 1151, approved May 7, 1880, and Mineral Survey No. 1303, approved March 20, 1878;

Sec. 22, that portion lying easterly of Cerro Gordo Road;

Sec. 23, those portions lying southerly of Cerro Gordo Road, excluding Mineral Survey No. 1131, approved May 1, 1880, Mineral Survey No. 1151, approved May 7, 1880, and Mineral Survey No. 1303, approved March 20, 1878;

Sec. 24, those portions lying southerly of Cerro Gordo Road and excluding Mineral Survey No. 301, approved September 20, 1873, Mineral Survey No. 987, approved September 7, 1876, Mineral Survey No. 1057, approved May 1, 1880, Mineral Survey No. 1124, approved May, 1883, Mineral Survey No. 1131, approved May 1, 1880, Mineral Survey No. 1295, approved November 20, 1882, Mineral Survey No. 1587, approved October 12, 1875, Mineral Survey No. 1730, approved April 15, 1881, Mineral Survey No. 5390, approved May 21, 1918, and Mineral Survey No. 5395, approved September 5, 1918;

Sec. 25;

Secs. 26 thru 28, those portions lying southeasterly of Cerro Gordo Road;

Secs. 32 and 33, those portions lying southeasterly of Cerro Gordo Road;

Secs. 34 thru 36.

T. 15 S., R. 38 E.,

Sec. 34, that portion lying southeasterly of Inyo Mountain Crest Road and southerly of BLM Inyo Mountains Wilderness Area;

Sec. 35, those portions lying southerly of BLM Inyo Mountains Wilderness Area and excluding Mineral Survey No. 5857, approved May 29, 1926;

Sec. 36, that portion lying southwesterly of BLM Inyo Mountains Wilderness Area.

T. 26 S., R. 37.5 E.,

Sec. 12, that portion lying northerly of BLM Kiavah Wilderness Area.

T. 23 S., R. 37.5 E.,

Sec. 1;

Sec. 12, that portion lying northerly of BLM Sacatar Trail Wilderness Area.

T. 20 S., R. 37.5 E.,

Sec. 12, that portion lying southerly of BLM Coso Range Wilderness Area;

Secs. 13, 24, and 25.

T. 28 S., R. 37 E.,

Secs. 1 thru 8;

Sec. 9, N½, W½SE¼, and SW¼;

Secs. 10 thru 12;

Sec. 13, E½, W½SW¼, and W½NW¼;

Secs. 14 and 15;

Sec. 16, E½SE¼;

Secs. 17 and 18;

Sec. 25, E½SE¼NE¼, E½SW¼SE¼NE¼, E½SE¼, and those portions of the E½E½NE¼NE¼, NW¼SE¼NE¼, W½SE¼, and SE¼SW¼ lying southeasterly of El Paso/Rand SRMA 18;

Sec. 35, that portion lying southeasterly of El Paso/Rand SRMA 18;

Sec. 36, S½NE¼, NW¼NE¼, SE¼, E½SW¼, SW¼SW¼, SE¼NW¼, and those portions of the NW¼SW¼, NE¼NW¼, and W½NW¼ lying southeasterly of El Paso/Rand SRMA 18.

T. 27 S., R. 37 E.,

Sec. 1, those portions of the N½ lying southwesterly of California State Highway 178 and easterly of BLM Kiavah Wilderness Area, and that portion of the SW¼ lying easterly of BLM Kiavah Wilderness Area;

Sec. 11, that portion lying southeasterly of BLM Kiavah Wilderness Area;

Sec. 12, that portion lying easterly of BLM Kiavah Wilderness Area;

Sec. 13;

Secs. 14 and 15, those portions lying southerly of the BLM Kiavah Wilderness Area;

Sec. 16, that portion of the SE¼ SE¼ lying southeasterly of BLM Kiavah Wilderness Area;

Sec. 18, lot 4;

Sec. 19, NW¼, that portion of E½NE¼ lying southerly, that portion of E½SE¼ lying northeasterly, and that portion of the SW¼ lying southwesterly and southeasterly of BLM Kiavah Wilderness Area;

Sec. 20, that portion lying southerly of BLM Kiavah Wilderness Area;

Sec. 21, that portion lying southeasterly of BLM Kiavah Wilderness Area;

Secs. 22 thru 29;

Sec. 30, the S½, those portions of the NE¼ lying northeasterly and southwesterly, and those portions of NW¼ lying southeasterly and southwesterly of BLM Kiavah Wilderness Area;

Sec. 31, that portion lying northerly, easterly and southerly of BLM Kiavah Wilderness Area;

Secs. 32 thru 35;

Sec. 36, N½ and E½SE¼.

T. 25 S., R. 37 E.,

Sec. 26, that portion lying southeasterly and southwesterly of BLM Owens Peak Wilderness Area;

Sec. 35, that portion lying easterly and westerly of BLM Owens Peak Wilderness Area;

Sec. 36, that portion lying southerly of BLM Owens Peak Wilderness Area.

T. 26 S., R. 37 E.,

Sec. 1, that portion lying northwesterly of BLM Owens Peak Wilderness Area;

Sec. 2, that portion lying easterly of BLM Owens Peak Wilderness Area.

T. 23 S., R. 37 E.,

Sec. 1, that portion lying northeasterly of BLM Sacatar Trail Wilderness Area;

Sec. 2, that portion lying northeasterly of BLM Sacatar Trail Wilderness Area.

T. 22 S., R. 37 E.,

Sec. 4, that portion lying southeasterly of BLM Sacatar Trail Wilderness Area;

Sec. 9, that portion lying easterly of BLM Sacatar Trail Wilderness Area;

Sec. 10, E½, SW¼, and E½NW¼;

Secs. 11 thru 12, those portions lying westerly of U.S. Highway 395;

Sec. 13;

Sec. 14, that portion lying northeasterly of BLM Sacatar Trail Wilderness Area;

Sec. 15, that portion lying easterly and northwesterly of BLM Sacatar Trail Wilderness Area;

Sec. 16, that portion lying northeasterly and southeasterly of BLM Sacatar Trail Wilderness Area;

Sec. 21, that portion lying northeasterly of BLM Sacatar Trail Wilderness Area;

Sec. 22, that portion lying northwesterly of BLM Sacatar Trail Wilderness Area;

Sec. 23, that portion lying easterly of BLM Sacatar Trail Wilderness Area;

Sec. 24, SE¼ and W½;

Sec. 25, NE¼, N½SE¼, E½NW¼, and those portions of the SE¼SE¼ and NE¼SW¼ lying easterly of El Paso/Rand SRMA 1;

Sec. 26, that portion lying easterly of BLM Sacatar Trail Wilderness Area;

Sec. 35, that portion lying easterly of BLM Sacatar Trail Wilderness Area;

Sec. 36, that portion lying westerly of DFA 38.

T. 21 S., R. 37 E.,

Sec. 1, E½, E½SW¼, and E½NW¼;

Sec. 2, S½SE¼SW¼, W½SW¼, and W½NW¼;

Secs. 3, 4, 9, and 10;

Sec. 11, N½NW¼SW¼NW¼NE¼, W½NW¼NW¼NE¼, that portion of W½ lying westerly of the 2nd Los Angeles Aqueduct, and that portion of W½ lying easterly of the 2nd Los Angeles Aqueduct and northeasterly of DFA 171;

Sec. 12;

Sec. 13, that portion lying northerly of DFA 171;

Sec. 14, W½NW¼, that portion of the E½ lying northerly of DFA 171, that portion of W½SW¼ lying northwesterly of DFA 171, and that portion of the E½NW¼ lying westerly of the Los Angeles Aqueduct and the 2nd Los Angeles Aqueduct;

Sec. 15, N½, SW¼, and that portion of SW¼SE¼ lying southwesterly of U.S. Highway 395;

Sec. 16, N½NE¼, SE¼, and W½;

Sec. 21;

Sec. 22, NW¼NE¼, N½SW¼SE¼, NE¼SW¼, W½SW¼, NW¼, those portions of the S½NE¼, N½SE¼, and SE¼SE¼ lying southwesterly of U.S. Highway 395;

Sec. 23, that portion of the N½SW¼SW¼ lying southwesterly of U.S. Highway 395;

Sec. 24, that portion lying northeasterly of DFA 171;

Sec. 28;

Sec. 33, that portion lying northerly and easterly of DFA171.

T. 20 S., R. 37 E.,

Sec. 1, that portion of E½ lying southwesterly of BLM Coso Range Wilderness Area;

Sec. 2, SW¼NE¼ and SE¼NW¼;

Sec. 3, E½;

Sec. 4, W½NE¼, W½SE¼, and W½;

Secs. 5 and 6;

Sec. 7, NE¼, W½SE¼, SE¼SW¼, NW¼SW¼, and SW¼NW¼;

Sec. 8, N½, SE¼SE¼, W½SE¼, E½SW¼, and SW¼SW¼;

Sec. 10, E½NE¼, NW¼NE¼, and E½SE¼;

Sec. 12, that portion of E½ lying southwesterly of BLM Coso Range Wilderness area;

Sec. 13, E½;

Sec. 15, NE¼NE¼, S½NE¼, and NE¼SE¼;

Sec. 17;

Sec. 18, E½, NE¼SW¼, S½SW¼, and E½NW¼;

Secs. 19 and 20;

Sec. 21, NW¼SE¼, S½SW¼, and NW¼SW¼;

Sec. 23, E½SW¼ and NW¼SW¼;

Sec. 24, E½;

Sec. 25;

Sec. 26, NE¼, E½SE¼, E½NW¼, and NW¼NW¼;

Secs. 28 thru 33;

Sec. 34, S½SW¼, NW¼SW¼, and NW¼;

Sec. 35, E½NE¼ and SE¼;

Sec. 36, N½ and SW¼.

T. 19 S., R. 37 E.,

Sec. 1, that portion lying westerly of BLM Coso Range Wilderness Area;

Secs. 2 and 3;

Sec. 4, SE¼ and SE¼SW¼;

Sec. 8, that portion of E½ lying southeasterly of California State Highway 190;

Sec. 9, those portions of E½, SW¼, S½NW¼, and NE¼NW¼ lying northeasterly, southeasterly, and westerly of Olancha SRMA 13;

Sec. 10, that portion lying easterly of Olancha SRMA 13;

Sec. 11;

Sec. 12, that portion lying southwesterly of BLM Coso Range Wilderness Area;

Sec. 13, that portion lying northwesterly and southwesterly of BLM Coso Range Wilderness Area;

Secs. 14 and 15;

Sec. 19, SW¼SE¼, SW¼, S½NW¼, and NW¼NW¼;

Sec. 20, E½SE¼;

Sec. 21, SE¼;

Sec. 22;

Sec. 23, that portion lying westerly of BLM Coso Range Wilderness Area;

Sec. 24, that portion lying northeasterly and northwesterly of BLM Coso Range Wilderness Area;

Sec. 26, W½NE¼, W½SE¼, and W½;

Sec. 27;

Sec. 28, NE¼ and E½SE¼;

Sec. 29, that portion lying northeasterly, southerly, and northerly of East Sierra SRMA 1, and southwesterly of U.S. Highway 395;

Sec. 30, NW¼NE¼, S½SE¼, and W½;

Sec. 31;

Sec. 32, W½, N½NE¼, and S½SE¼;

Sec. 33, NE¼NE¼, S½SW¼SE¼, and W½;

Sec. 34, N½ and SE¼;

Sec. 35, that portion lying westerly of BLM Coso Range Wilderness Area;

T. 18 S., R. 37 E.,

Secs. 24 and 25, those portions lying southeasterly of California State Highway 190;

Sec. 34, those portions of S½SE¼, NW¼SW¼, and SE¼SW¼ lying southeasterly of California State Highway 190;

Sec. 35, those portions of E½, SW¼, and S½NW¼ lying southeasterly of California State Highway 190;

T. 28 S., R. 36 E.,

Sec. 1, that portion lying easterly of the BLM Kiavah Wilderness Area;

Sec. 3, that portion lying westerly of the BLM Kiavah Wilderness Area;

Secs. 4 thru 9;

Secs. 10 and 11, that portion lying southwesterly of the BLM Kiavah Wilderness Area;

Sec. 12, that portion lying southerly and easterly of the BLM Kiavah Wilderness Area;

Sec. 13;

Sec. 14, E½, E½SW¼, SW¼SW¼, W½NW¼, and NW¼NW¼;

Sec. 15, NE¼, W½SE¼, and W½;

Secs. 16 thru 23, and Sec. 26;

Sec. 27, E½, E½SW¼, NW¼SW¼, and NW¼;

Secs. 28 thru 35.

T. 27 S., R. 36 E.,

Sec. 13, E½SE¼, SW¼SE¼, E½SW¼, NW¼SW¼, and SW¼NW¼;

Sec. 19, that portion lying southerly of BLM Kiavah Wilderness Area;

Sec. 24, N½NE¼;

Sec. 25, S½, W½NW¼, those portions of NE¼ and E½NW¼ lying southerly of BLM Kiavah Wilderness Area;

Secs. 28 thru 29, those portions lying southwesterly of BLM Kiavah Wilderness Area;

Sec. 30, that portion lying southerly and southwesterly of BLM Kiavah Wilderness Area;

Secs. 31 and 32;

Secs. 33 thru 34, those portions lying southwesterly of BLM Kiavah Wilderness Area;

Sec. 36, those portions lying northeasterly and southeasterly of BLM Kiavah Wilderness Area.

T. 19 S., R. 36 E.,

Secs. 24 thru 25;

Sec. 36, S½NE¼, S½SE¼SE¼, S½SW¼SE¼, and lots 1 thru 4.

T. 28 S., R. 35 E.,

Sec. 1;

Sec. 2, lots 5, 6, 11, and 12, S½NE¼, SE¼, and W½;

Sec. 3, lots 17 and 18, NE¼, and N½SE¼;

Sec. 4, those portions of lots 6, 10, 11, 14, 16, and 17 lying easterly of BLM Bright Star Wilderness Area;

Sec. 9, that portion lying easterly of BLM Bright Star Wilderness Area;

Sec. 10, lots 4, 5, 7, and 8, and SE¼;

Sec. 11;

Sec. 12, lots 1 thru 4, N½NE¼, SE¼NE¼, NE¼SE¼, S½SE¼, S½SW¼, NW¼SW¼, N½NW¼, and SW¼NW¼;

Secs. 13 and 14;

Sec. 15, E½, W½NE¼NE¼SW¼, SE¼NE¼SW¼, W½NE¼SW¼, SE¼SW¼, E½SE¼SW¼SW¼, SE¼NE¼SW¼SW¼, NE¼NW¼, and SE¼NW¼;

Sec. 20, SE¼SE¼, and those portions of the SE¼NE¼, NE¼SE¼, and SW¼ lying southerly of BLM Bright Star Wilderness Area;

Sec. 21, those portions of NW¼NE¼ and W½ lying southerly and easterly of BLM Bright Star Wilderness Area;

Secs. 22 thru 27;

Sec. 28, SW¼NE¼, S½, and S½NW/14;

Sec. 29, S½NE¼, S½, and NW¼;

Secs. 30 thru 36.

T. 27 S., R. 35 E.,

Secs. 24 and 25, those portions lying southerly of BLM Kiavah Wilderness Area and Jawbone SMRA 40;

Sec. 26, that portion southerly of Jawbone SMRA 40;

Sec. 27, SE¼SE¼, S½SW¼, and those portions of NE¼SE¼, NE¼SW¼, and S½NW¼SW¼ lying southerly of Jawbone SMRA 40;

Sec. 33, those portions lying easterly, northeasterly, and southwesterly of BLM Bright Star Wilderness Area;

Sec. 34, E½NE¼, SW¼NE¼, N½SW¼, and W½NW¼;

Secs. 35 and 36.

T. 28 S., R. 34 E.,

Sec. 35, SE¼;

Sec. 36, S½.

The Eastern Slopes-West Desert area of the California Desert National Conservation Lands described aggregates 235,604 acres in Kern and Inyo Counties.

The total areas described aggregate 1,337,904 acres in the State of California and the counties listed above, and consist of a subset of the designated California Desert National Conservation Lands.

The Assistant Secretary of the Interior for Land and Minerals Management has approved the BLM's petition. This action therefore, constitutes a withdrawal proposal of the Secretary of the Interior (43 CFR 2310.1-3(e)).

The purpose of the proposed withdrawal is to protect nationally significant landscapes with outstanding cultural, biological, and scientific values from adverse effects of locatable mineral exploration and mining.

The use of a right-of-way, interagency or cooperative agreement, or surface management by the BLM under 43 CFR 3715 or 43 CFR 3809 regulations do not adequately constrain nondiscretionary uses, which could result in the loss of nationally significant values for which the California Desert National Conservation Lands were designated.

Alternative sites for withdrawal from location and entry under the United States mining laws exist on approximately 1.6 million acres of California Desert National Conservation Lands. These California Desert National Conservation Lands are not being proposed for withdrawal at this time because their values are not as sensitive and therefore would not benefit from a withdrawal to the same degree as the proposed 1,337,904 acres. A future phase 2 withdrawal proposal may include all or a portion of the approximately 1.6 million remaining acres of California Desert National Conservation Lands.

No water rights would be needed to fulfill the purpose of the proposed withdrawal.

Records relating to the application may be examined by contacting the BLM offices listed above.

For a period until March 28, 2017, all persons who wish to submit comments, suggestions, or objections in connection with the proposed withdrawal may present their views in writing to the BLM-California State Director, 2800 Cottage Way, Rm 1623, Sacramento, CA 95825, or electronically to drecp_cdncl_withdrawal@blm.gov.

Notice is hereby given that one or more public meetings will be held in connection with the proposed withdrawal. A notice of the time and place of these public meetings will be published in the Federal Register and a local newspaper at least 30 days before the scheduled date of the meeting.

All comments received, within the prescribed timeframe, will be considered before any final action is taken on the withdrawal application.

This notice also opens a 90-day public scoping period for the EIS. The purpose of the public scoping process is to determine relevant issues that will influence the scope of the environmental analysis, including alternatives in the EIS. At present, the BLM has identified the following preliminary issues for analysis: Air quality, climate, Native American resources, cultural resources, mineral resources, recreation, socio-economic conditions, soil resources, special status species, vegetation resources, visual resources, water resources, and fish and wildlife resources.

Because of the nature of a withdrawal of public lands from location and entry under the United States mining laws, mitigation of its effects is not likely to be an issue requiring detailed analysis. However, consistent with Council on Environmental Quality regulations implementing the National Environmental Policy Act (NEPA) (40 CFR 1502.14), the BLM will consider whether to and what kind of mitigation measures may be appropriate to address the reasonably foreseeable impacts to resources from the approval of this proposed withdrawal.

The BLM will use the NEPA scoping process to help fulfill the public involvement requirements under the National Historic Preservation Act (54 U.S.C. 306108) as provided in 36 CFR 800.2(d)(3). The information about historic and cultural resources within the area potentially affected by the proposed action will assist the BLM in identifying and evaluating impacts to such resources.

The BLM will consult with tribes on a government-to-government basis in accordance with Executive Order 13175 and other policies. Tribal concerns, including impacts to Indian trust assets and potential impacts to cultural resources, will be given due consideration. Federal, State, and local agencies, along with tribes and other stakeholders that may be interested in or affected by the proposed withdrawal, are invited to participate in the scoping process and, if eligible, may request or be requested by the BLM to participate in the development of the EIS as a cooperating agency.

Comments, including names and street addresses of respondents, will be available for public review at the BLM California State Office at the address noted above, during regular business hours Monday through Friday, except Federal holidays. Before including your address, phone number, email address, or other personal identifying information in your comment, you should be aware that your entire comment—including your personal identifying information—may be made publicly available at any time. While you can ask us in your comment to withhold your personal identifying information from public review, we cannot guarantee that we will be able to do so.

For a period until December 28, 2018, the lands described in this notice will be segregated from location and entry under the United States mining laws, subject to valid existing rights, unless the application/proposal is denied or canceled or the proposed withdrawal is approved prior to that date. Licenses, permits, cooperative agreements, or other discretionary land use authorizations may be allowed during the temporary segregative period, but only with approval of the authorized officer of the BLM.

The application will be processed in accordance with the regulations set forth in 43 CFR part 2300.

Jerome E. Perez,
California State Director, Bureau of Land Management.

[FR Doc. 2016-31231 Filed 12-27-16; 8:45 am]

BILLING CODE 4310-40-P